DEPARTMENT OF COMMERCE

National Oceanic and Atmospheric Administration

50 CFR Parts 600 and 622

[Docket No. 220825-0173]

RIN 0648-BD32

Fisheries of the Caribbean, Gulf of Mexico, and South Atlantic; Comprehensive Fishery Management Plans for Puerto Rico, St. Croix, and St. Thomas and St. John

AGENCY: National Marine Fisheries Service (NMFS), National Oceanic and Atmospheric Administration (NOAA), Commerce.

ACTION: Final rule.

SUMMARY: NMFS is issuing regulations to implement management measures in three new fishery management plans (FMPs), as prepared and submitted by the Caribbean Fishery Management Council (Council). This final rule replaces regulations implementing the U.S. Caribbean region-wide FMPs with regulations implementing the approved island-based FMPs. The purpose of the island-based FMPs is to update management of Federal fisheries in the U.S. Caribbean. NMFS expects these management measures will better account for differences among the U.S. Caribbean islands with respect to culture, markets, fishing gear used, seafood preferences, and ecological impacts.

DATES: This final rule is effective October 13, 2022. The Director approves the redesignation of the incorporation by reference from § 622.413 to § 622.19 as of October 13, 2022.

ADDRESSES: Electronic copies of the island-based FMPs may be obtained from www.regulations.gov or the Southeast Regional Office website at https://www.fisheries.noaa.gov/action/caribbean-island-based-fishery-management-plans. Each island-based FMP includes an environmental assessment (EA), regulatory impact review, and fishery impact statement. A Regulatory Flexibility Act (RFA) analysis for each island-based FMP has also been prepared and is available at the Southeast Regional Office website.

FOR FURTHER INFORMATION CONTACT: María del Mar López-Mercer, NMFS Southeast Regional Office, telephone: 727-824-5305, or email: maria.lopez@noaa.gov.

SUPPLEMENTARY INFORMATION: The Council and NMFS manage fishery resources in the U.S. Caribbean exclusive economic zone (EEZ) around Puerto Rico, St. Croix, and St. Thomas and St. John through FMPs prepared by the Council and NMFS, and through implementing regulations promulgated by NMFS at 50 CFR part 622 under the authority of the Magnuson-Stevens Fishery Conservation and Management Act (Magnuson-Stevens Act).

On June 26, 2020, NMFS published a notice of availability for the island-based FMPs and requested public comment (85 FR 38350). On September 22, 2020, the Secretary of Commerce approved the island-based FMPs under section 304(a)(3) of the Magnuson-Stevens Act. On May 19, 2022, NMFS published a proposed rule for the island-based FMPs and requested public comment (87 FR 30730). The proposed rule and the island-based FMPs outline the rationale for the actions contained in this final rule. A summary of the management measures described in the island-based FMPs and implemented by this final rule is described below.

Background

The Council and NMFS currently manage fisheries under four U.S. Caribbean-wide FMPs for Puerto Rico and the U.S. Virgin Islands (USVI). These are the FMPs for the Reef Fish Fishery of Puerto Rico and the USVI (Reef Fish FMP), the FMP for the Spiny Lobster Fishery of Puerto Rico and the USVI (Spiny Lobster FMP), the FMP for the Queen Conch Resources of Puerto Rico and the USVI (Queen Conch FMP), and the FMP for the Corals and Reef Associated Plants and Invertebrates of Puerto Rico and the USVI (Coral FMP). Upon implementation, the island-based FMPs will replace the U.S. Caribbean-wide FMPs.

Under these FMPs and implementing regulations, the Council and NMFS conduct management in the U.S. Caribbean Exclusive Economic Zone (EEZ). However, the Council established certain management measures that apply separately within Federal waters off Puerto Rico, St. Croix, and St. Thomas and St. John, based on the availability of island-specific data. For example, Amendment 5 to the Reef Fish FMP and Amendment 2 to the Queen Conch FMP (2010 Caribbean Annual Catch Limit Amendment; 76 FR 82404; December 30, 2011), defined the fishery management boundaries of the U.S. Caribbean EEZ around Puerto Rico, St. Croix, and St. Thomas and St. John. Those FMP amendments, and later amendments, established separate, island-specific annual catch limits (ACLs) and accountability measures (AMs) for almost all species under management.

In 2012, the Council initiated public discussion of an island-based approach to the management of fisheries in the U.S. Caribbean EEZ to address requests from fishermen, fishing community representatives, and the governments of Puerto Rico and the USVI that the Council consider the differences among the islands when addressing fisheries management in the U.S. Caribbean. These entities highlighted the unique characteristics of the fishery resources within each island or island group, and the communities that are dependent on those resources. NMFS and the Council expect that the island-based FMPs will better account for differences among the U.S. Caribbean islands with respect to culture, markets, fishing gear used, seafood preferences, and the ecological impacts.

In response to these public requests, the Council decided to shift from a U.S. Caribbean-wide management approach to an island-based management approach, and began developing FMPs for Puerto Rico, St. Croix, and St. Thomas and St. John, respectively. An EA, completed in 2014, analyzed transitioning from U.S. Caribbean-wide to island-based management and evaluated the impact of incorporating the management measures in effect at that time under the U.S. Caribbean-wide FMPs into FMPs for different island management areas. Based on the 2014 EA, the Council proceeded with developing FMPs for three island areas. The island-based FMPs are the Comprehensive FMP for the Puerto Rico EEZ (Puerto Rico FMP), the Comprehensive FMP for the St. Croix EEZ (St. Croix FMP), and the Comprehensive FMP for the St. Thomas and St. John EEZ (St. Thomas and St. John FMP). Each of these FMPs is evaluated in three additional, separate EAs, which were finalized in 2020.

Through this rulemaking, the management measures contained in the Puerto Rico FMP, the St. Croix FMP, and the St. Thomas and St. John FMP, in combination, will replace management measures in the U.S. Caribbean-wide FMPs. The U.S. Caribbean EEZ, also referred to as Federal waters, begins 9 nautical miles (nmi) from shore off Puerto Rico and 3 nmi from shore off the USVI, and the U.S. Caribbean EEZ extends up to 200 nmi from shore, except where the principle of equidistance is applied for conformance to the maritime boundaries of neighboring nations. Federal waters around Puerto Rico, St. Croix, and St. Thomas and St. John are defined as the respective island management areas under the island-based FMPs. Each of the island-based FMPs retain most of the management measures established under the U.S. Caribbean-wide FMPs that apply to the respective island management area, including seasonal and area closures, minimum size limits, and recreational bag limits. The island-based FMPs also revise certain management measures, such as the species included for Federal management, and ACLs and AMs. This final rule establishes regulations specifically applicable to each island management area under three separate subparts to 50 CFR part 622, and fisheries management will be adapted to the individual characteristics of Puerto Rico, St. Croix, and St. Thomas and St. John.

Management Measures Contained in This Final Rule

The island-based FMPs incorporate fishery management measures included in the U.S. Caribbean-wide Spiny Lobster, Reef Fish, Queen Conch, and Coral FMPs that are applicable to the EEZ around each of the island management areas. This final rule reorganizes the current regulations into island-specific subparts. For example, each island-based FMP retains the aggregate recreational bag limit established in the Reef Fish FMP for groupers, snappers, and parrotfish, and the regulations restate the bag limit in each of the island-specific subparts, though in each island management area, some species may have been added to or removed from management. Restrictions established under the Reef Fish FMP that only applied to a particular management area, such as the minimum size limits for parrotfish off St. Croix, are included in the St. Croix subpart only. The island-based FMPs revise the list of species managed and modify the stock or stock complexes under which those species are managed; revise and specify ACLs; establish annual catch targets (ACTs) for pelagic stocks; revise AMs; and update the FMP framework procedures. These measures are being implemented in regulations specific to each island management area. Certain management reference points, such as stock and stock complex status determination criteria (SDC), are not codified and therefore are not included in this final rule. Those measures are contained in the island-based FMPs.

The management measures under each island-based FMP that will be implemented by this final rule are described in the following sections. For each type of management action, information applicable to all three island management areas is described first, followed by island area-specific modifications, where applicable.

Island-Based Management

This final rule restructures the regulations at 50 CFR part 622 from four subparts corresponding to the U.S. Caribbean-wide FMPs (Reef Fish, Spiny Lobster, Corals and Reef Associated Plants and Invertebrates, and Queen Conch) to three subparts corresponding to island-based FMPs (Puerto Rico, St. Croix, and St. Thomas and St. John) and incorporates U.S. Caribbean-wide management measures, as appropriate, into the appropriate island-specific subpart. In addition, this final rule implements other management measures in the approved island-based FMPs, as discussed further in this final rule.

Selection of Species To Be Managed

The Reef Fish, Spiny Lobster, Queen Conch, and Coral FMPs and the regulations implementing those FMPs include 81 species of reef fish, 58 species of aquarium trade fish, spiny lobster, queen conch, 94 genera or species of corals, and 63 genera or species of aquarium trade invertebrates (see current Table 1 to appendix A of 50 CFR part 622). The Council's Scientific and Statistical Committee (SSC) and the District Advisory Panel from each island management area provided recommendations on the criteria used for the Council to select the species to be managed under each island-based FMP. This final rule specifies the unique list of managed species in each island management area under the respective island-based FMP.

Puerto Rico Species for Management

Spiny lobster, queen conch, 63 species of fish, and all species of corals, sea urchins, and sea cucumbers that occur within the Puerto Rico management area are included for management in the Puerto Rico FMP and in this final rule. Of the 63 species of fish included for management in the EEZ around Puerto Rico, 18 species are new to management.

St. Croix Species for Management

Spiny lobster, queen conch, 43 species of fish, and all species of corals, sea urchins, and sea cucumbers that occur within the St. Croix management area are included for management in the St. Croix FMP and in this final rule. Of the 43 species of fish included for management in the EEZ around St. Croix, 2 species are new to management.

St. Thomas and St. John Species for Management

Spiny lobster, queen conch, 47 species of fish, and all species of corals, sea urchins, and sea cucumbers that occur within the St. Thomas and St. John management area are included for management in the St. Thomas and St. John FMP and in this final rule. Of the 47 species of fish included for management in the EEZ around St. Thomas and St. John, 3 species are new to management.

Stock Complex Organization and Selection of Indicator Stocks

After establishing the species to be managed under each island-based FMP, the Council determined whether to manage those species as individual stocks or in stock complexes. For those managed in stock complexes, the Council determined if one or more indicator stocks should be assigned to the species groups. An indicator stock is a stock with measurable and objective SDC that can be used to help manage and evaluate more poorly known stocks that are in a stock complex (50 CFR 600.310(d)(2)(ii)(A)). In the island-based FMPs, this action resulted in a different organization of stocks than under the U.S. Caribbean-wide FMPs. Thus, under the island-based FMPs and this final rule, a new number of stocks and stock complexes will be managed relative to the U.S. Caribbean-wide FMPs.

Puerto Rico Stock Organization

The Puerto Rico FMP and this final rule apply to species as 18 individual stocks and 19 stock complexes and include 7 indicator stocks.

St. Croix Stock Organization

The St. Croix FMP and this final rule apply to species as 13 individual stocks and 13 stock complexes and includes 6 indicator stocks.

St. Thomas and St. John Stock Organization

The St. Thomas and St. John FMP and this final rule apply to species as 12 individual stocks and 14 stock complexes and includes 9 indicator stocks.

Status Determination Criteria and Other Management Reference Points

The Magnuson-Stevens Act requires that FMPs specify a number of reference points for managed fish stocks, including maximum sustainable yield (MSY) or MSY proxy, as well as stock SDC, including overfished and overfishing thresholds, and acceptable biological catch (ABC).

The ABC control rule contained in each island-based FMP replaces the ABC control rules included in the 2010 Caribbean ACL Amendment and 2011 Caribbean ACL Amendment, as applicable. The island-based FMPs establish SDC and other management reference points for all stocks and stock complexes to be included for island-based management, which were defined following a 3-step process.

Step 1 adopts and applies a 4-tiered ABC control rule to specify MSY, SDC, and ABC depending on differing levels of data availability. Step 2 establishes a proxy to use when the fishing mortality that would produce MSY (FMSY) cannot be determined. Step 3 applies a reduction factor, reflecting the Council's estimate of management uncertainty, to the ABC for each stock or stock complex to specify the ACL for the stock or stock complex. The optimum yield (OY) would be set equal to the ACL for each stock or stock complex.

Under the ABC control rule in each island-based FMP, Tier 1 applies to stocks with the most data available, while each subsequent tier operates with less available data than the preceding tier. Tier 4, the final tier, is the most data limited and applies when no accepted quantitative assessment is available. The tiered approached to the ABC control rule positions the Council to take advantage of future improvements in data and analytical methodologies. The higher tiers of the ABC control rule (i.e., 1, 2, or 3) require inputs from a quantitative stock assessment, which in turn require additional data than were available at the time the island-based FMPs were under development. Establishing those tiers now, in anticipation of improvements in data, allows the Council to act more quickly when those data become available than if the Council adopts an ABC control rule that encompasses the Tier 4 process alone.

In Tier 4, the most data-limited of the options, an MSY proxy and maximum fishing mortality threshold (MFMT), are defined with respect to assumptions made in Step 2 about fishing mortality rate, but cannot be quantified due to data limitations. In addition, Tier 4 introduces a new reference point, the sustainable yield level (SYL), which is determined under one of two sub-tiers, Tier 4a and Tier 4b, based on the SSC's understanding of the stock's vulnerability to fishing pressure. Tier 4a is less conservative and is applicable when the stock has a relatively low or moderate vulnerability to fishing pressure. Tier 4b is more conservative and is applicable when the stock has relatively high vulnerability to fishing pressure. The SYL is a quantitative estimate of the level of landings that can be sustained over the long term. SYL is intended to be used when quantitative information with which to set MSY or an MSY proxy based on fishing mortality rate is not available. The SYL serves as a proxy for the overfishing limit (OFL) and a minimum estimate of MSY where MSY is greater than or equal to SYL. Thus, SYL also is an MSY proxy. The ABC is reduced from the SYL depending on the SSC's determination of scientific uncertainty.

When the island-based FMPs were under development, all stocks and stock complexes fell under Tier 4 of the ABC control rule (Step 1). Under the definitions in Tier 4, the MSY proxy is equal to the long-term yield FMSY proxy, the MFMT is equal to FMSY proxy, and the minimum stock size threshold (MSST) is equal to 75 percent of the spawning stock biomass at MFMT. Under Step 2, for all stocks and stock complexes across all island-areas, the Council established a FMSY proxy equal to 30 percent of the maximum spawning potential of a stock under conditions of no fishing mortality (F30 percent SPR).

Applying Tier 4 of the ABC control rule (Step 1), the SSC derived SYLs from a period of stable and sustainable landings, and recommended ABCs based on those SYLs, with certain exceptions discussed in the island-specific sections later in this preamble. Revising or establishing the SDC and other reference points under Tier 4 ensures, based on the best scientific information available, that the SDC and reference points prevent overfishing and achieve OY.

Finally, under Step 3, the Council applied a management uncertainty buffer to the ABCs to specify the ACLs, where the ACL for the stock or stock complex equals OY, as discussed in the island-specific ACL sections later in this preamble.

NMFS notes that except for ACLs, SDC and other management reference points are not codified in this final rule, but are described in each island-based FMP.

Puerto Rico Stock Evaluation

For the Puerto Rico FMP, landings data for Council-managed reef fish, pelagic fish, and rays were available for the commercial and recreational fishing sectors operating in state and Federal waters around Puerto Rico. The Council's SSC relied on landings data to determine an SYL, as a proxy for MSY and OFL, and ABC for most fish stocks and stock complexes, with ACLs set by sector. For spiny lobster, only commercial landings data are collected. Because recreational landings data are not available, the SYL, ABC, and ACL for spiny lobster are based on commercial landings. The SSC determined that some species included for management under the Puerto Rico FMP were more vulnerable to overfishing and recommended that the ABC be set at zero. Stocks with an ABC of zero pounds include queen conch, Nassau grouper (Grouper 1), goliath grouper (Grouper 2), giant manta ray (Rays 1), spotted eagle ray (Rays 2), and southern stingray (Rays 3). Stock complexes with an ABC of zero pounds include Parrotfish 1 (blue parrotfish, midnight parrotfish, and rainbow parrotfish), Sea Cucumbers, Sea Urchins, and Corals. The description of the process for determining the ACLs is discussed below.

St. Croix Stock Evaluation

For the St. Croix FMP, recreational landings data were not available, thus SYL, as proxy for both MSY and OFL, ABC, and ACL for most stocks and stock complexes to be included for management were derived using commercial landings. The SSC determined that some species included for management under the St. Croix FMP were more vulnerable to overfishing and recommended that the ABC be set at zero. Stocks with an ABC of zero pounds include Nassau grouper (Grouper 1) and goliath grouper (Grouper 2). Stock complexes with an ABC of zero pounds include Parrotfish 1 (blue parrotfish, midnight parrotfish, and rainbow parrotfish), Sea Cucumbers, Sea Urchins, and Corals. The SSC deviated from the ABC control rule and recommended an ad hoc SYL for queen conch at 107,720 lb (kg 48,861 kg) and recommended an ad hoc ABC of 50,000 lb (22,680 kg) in the portion of the EEZ around St. Croix from which harvest is allowed. Given difficulties interpreting queen conch catch data, the SSC recommended retaining the OFL (now SYL) and ABC specified under the Queen Conch FMP. The SSC confirmed these measures are still protective of queen conch stock status. The SSC noted that the seasonal closure for queen conch in state waters is 5 months each year, and that an area in Federal waters is closed to harvest year-round. At Council meetings, including the August 2018 meeting, the Council and SSC agreed that these measures and others, including the availability of in-season conch landings data, sufficiently address the management certainty associated with the recommended ABC. The description of the process for determining the ACLs is discussed later in the preamble to this final rule.

St. Thomas and St. John Stock Evaluation

For the St. Thomas and St. John FMP, recreational landings data were not available, thus SDC and other management reference points (e.g., SYL, as a proxy for both MSY and OFL, ABC, and ACL) for the stocks and stock complexes proposed for management were derived using commercial landings. The SSC determined that some species included for management under the St. Thomas and St. John FMP were more vulnerable to overfishing and recommended that the ABC be set at zero pounds. Stocks with an ABC of zero pounds include queen conch, Nassau grouper (Grouper 1), and goliath grouper (Grouper 2). Stock complexes with an ABC of zero pounds include Parrotfish 1 (blue parrotfish, midnight parrotfish, and rainbow parrotfish), Sea Cucumbers, Sea Urchins, and Corals. The description of the process for determining the ACLs is discussed below.

Annual Catch Limits

This final rule specifies ACLs for all stocks and stock complexes in each island-based FMP. The island-based FMPs establish management reference points (i.e., SYL and ABC) from which the ACLs are derived. This final rule also specifies ACTs for pelagic stocks and stock complexes managed under each island-based FMP.

Puerto Rico ACLs

For the Puerto Rico FMP, landings data for reef fish, pelagic fish, and rays were available for the commercial and recreational fishing sectors operating in state and Federal waters around Puerto Rico. As described previously, the Council relied on landings data to determine ACLs by sector for managed stocks or stock complexes. For spiny lobster and queen conch, only commercial landings data are collected and available. Because recreational landings data are not available for invertebrates, the spiny lobster ACL and the queen conch ACL are based on commercial landings and each ACL applies to all harvest for the stock, whether commercial or recreational.

To determine the ACL, the ABC for each stock or stock complex, including stocks or stock complexes with an ABC of zero, was multiplied by the Council's management uncertainty buffer. For all stocks and stock complexes, except for the angelfish, parrotfish, and surgeonfish stock complexes, the Council adopted a management uncertainty buffer of 0.95, based on their assumption that the buffer from SYL to ABC accounted for much of the limitation in landings information. For this reason, they believed a smaller buffer from ABC to ACL would be adequate to constrain catch to the ACL. For the angelfish, parrotfish, and surgeonfish stock complexes, the Council adopted a management uncertainty buffer of 0.85 to provide additional protection to the stock complexes.

In the event that landings for one sector are not available for comparison to the sector-specific ACL, the sectors will not be separately managed; the ACL for the sector with available data will be the applicable ACL for the entire stock or stock complex. Recreational data collection in Puerto Rico ceased following the 2017 hurricane season. Efforts are underway to resume the recreational data collection. If recreational landings are unavailable, the ACL for the commercial sector will be the ACL for the stock or stock complex.

St. Croix ACLs

For the St. Croix FMP, recreational landings data are not available, thus the Council relied on commercial landings data to determine ACLs for stocks and stock complexes. These ACLs apply to all harvest of St. Croix stocks and stock complexes, whether commercial or recreational.

To determine the ACL, the ABC for each stock or stock complex, including stocks or stock complexes with an ABC of zero, was multiplied by the Council's management uncertainty buffer. For all stocks and stock complexes, except for queen conch and the angelfish, parrotfish, and surgeonfish stock complexes, the Council adopted a management uncertainty buffer of 0.95, based on their assumption that the buffer from SYL to ABC accounted for much of the limitation in landings information. For this reason, the Council believed a smaller buffer from ABC to ACL would be adequate to constrain catch to the ACL. For the angelfish, parrotfish, and surgeonfish stock complexes, which perform an essential ecological function in the coral reef ecosystem, the Council adopted a management uncertainty buffer of 0.85 to provide additional protection to the stock complexes. For queen conch, the Council did not apply a management uncertainty buffer, as this stock is managed with in-season data and additional regulations, such as a commercial and recreational daily quota and bag limit and the 5-month seasonal closure, which the Council considered sufficient to constrain landings to the ACL.

St. Thomas and St. John ACLs

For the St. Thomas and St. John FMP, recreational landings data are not available, thus commercial landings data were used to set ACLs for stocks and stock complexes. These ACLs apply to all harvest of St. Thomas and St. John stocks and stock complexes, whether commercial or recreational.

To determine the ACL, the ABC for each stock or stock complex, including stocks or stock complexes with an ABC of zero, was multiplied by the Council's management uncertainty buffer. For all stocks and stock complexes, except for the angelfish, parrotfish, and surgeonfish stock complexes, the Council adopted a management uncertainty buffer of 0.95, based on their assumption that the buffer from SYL to ABC accounted for much of the limitation in landings information. For this reason, the Council believed a smaller buffer from ABC to ACL would be adequate to constrain catch to the ACL. For the angelfish, parrotfish, and surgeonfish stock complexes, which perform an essential ecological function in the coral reef ecosystem, the Council adopted a management uncertainty buffer of 0.85 to provide additional protection to these stock complexes.

Accountability Measures

This final rule implements the AMs specified in the island-based FMPs and replaces the AMs from the U.S. Caribbean-wide FMPs. For the AMs specified in the U.S. Caribbean-wide Reef Fish and Spiny Lobster FMPs, reef fish and spiny lobster landings data for each island management area are evaluated relative to the applicable ACL based on a moving 3-year average of landings, using the most recent, complete 3 years of landings data available. For reef fish stocks or stock complexes in the EEZ around Puerto Rico, ACLs are specified by sector and an AM is triggered if both the sector-specific ACL and total ACL (commercial plus recreational) are exceeded, unless NMFS determines that either the sector-specific ACL or the total ACL exceedance resulted from enhanced data collection and monitoring efforts. For reef fish stocks or stock complexes in the EEZ around the USVI and for spiny lobster in all management areas, an AM is triggered if commercial landings exceed the ACL for the stock or stock complex, unless NMFS determines that the ACL was exceeded because of enhanced data collection and monitoring efforts.

Under the U.S. Caribbean-wide Reef Fish and Spiny Lobster FMPs, if NMFS determines that the ACL exceedance resulted from increased catch rather than enhanced data collection and monitoring efforts, NMFS will reduce the length of the fishing season for that stock or stock complex, by sector where applicable, by the amount necessary to ensure that landings would not exceed the applicable ACL in the following fishing year. Under the U.S. Caribbean-wide Reef Fish and Spiny Lobster FMPs, NMFS applies any fishing season reduction starting from September 30 and moving earlier toward the beginning of the fishing year (January 1). If the length of the required fishing season reduction exceeds the time period of January 1 through September 30, any additional fishing season reduction necessary is applied in the same fishing year from October 1 and moving later toward the end of the fishing year (December 31). The Council adopted this approach in Amendment 8 to their Reef Fish FMP, and Amendment 7 to their Spiny Lobster FMP, to minimize adverse socioeconomic effects from the implementation of AMs, while still helping to ensure that AM-based closures constrain harvest to the ACL and prevent overfishing. (82 FR 21475; May 9, 2017)

For the AMs under the Reef Fish FMP for the prohibited reef fish species (e.g., Nassau grouper), under the Coral FMP for the prohibited coral species, and under the Queen Conch FMP for queen conch in Puerto Rico and St. Thomas and St. John, where harvest of queen conch is prohibited, those harvest prohibitions serve as the AM. The AM specified for St. Croix in the Queen Conch FMP provides that when the ACL is reached or projected to be reached prior to the end of the fishing season, the Regional Administrator will close the area east of 64°34′ W in the EEZ off St. Croix to the harvest and possession of queen conch. All other Federal waters off St. Croix are closed year-round to queen conch harvest.

This final rule replaces the AMs established under the U.S. Caribbean-wide FMPs and specifies AMs for all managed stocks and stock complexes in each island management area, as detailed in the following island-specific sections.

Puerto Rico AMs

The AM for spiny lobster under the Puerto Rico FMP is the same as the AM for spiny lobster under the U.S. Caribbean-wide Spiny Lobster FMP, with minor changes to the years of landings evaluated as the AM trigger. In addition, NMFS has clarified language to implement the AM to reflect that the AM trigger evaluation occurs at or near the beginning of the fishing year when necessary data are available. This change is consistent with the Council's intent, which is to establish an AM that relies on the best available data to prevent ACL exceedances.

Under the Puerto Rico FMP, the AM for spiny lobster provides that at or near the beginning of the fishing year, available landings of spiny lobster (i.e., commercial landings) would be evaluated relative to the spiny lobster ACL based on a moving multi-year average of landings, as described below in the AM Trigger and ACL Monitoring section. If the ACL is exceeded, and NMFS determines that the ACL overage resulted from improved data collection or monitoring rather than from increased catch, the AM would not be triggered and NMFS would not reduce the length of the fishing season for spiny lobster. If, however, NMFS determines that the ACL overage resulted from increased catch rather than from improved data collection or monitoring, the AM would be triggered and NMFS would reduce the length of the fishing season for spiny lobster by the amount necessary to prevent landings from exceeding the ACL.

The AM under the Puerto Rico FMP contains the same exception from the AM trigger as the AM under the Spiny Lobster FMP for ACL exceedances based on improved data collection and monitoring. The regulations clarify that the AM trigger evaluation (i.e., the comparison of landings to the ACL) is made at or near the beginning of the fishing year, not necessarily at the end of the prior year. This change is necessary because complete data on landings often are not available by the end of the fishing year, but rather are available early in the subsequent year, or later. Often there is a 1 to 2 year data lag as well, which is discussed later in the section on the AM trigger and ACL monitoring. Therefore, NMFS clarifies that it would make the AM trigger determination as soon as landings data are available, i.e., at or near the beginning of the fishing year, and that any required fishing season reduction would occur as soon as possible thereafter.

Under the U.S. Caribbean-wide Spiny Lobster FMP, any required fishing season reduction would be applied starting from September 30 and moving earlier toward the beginning of the fishing year (January 1). If the length of the required fishing season reduction exceeds the time period of January 1 through September 30, any additional fishing season reduction necessary would be applied in the same fishing year, starting from October 1 and moving later toward the end of the fishing year (December 31).

The Puerto Rico FMP provides for management of reef fish stocks and stock complexes by sector when data are available to set an ACL by sector, and the corresponding AM operates in the same manner as the AM under the U.S. Caribbean-wide Reef Fish FMP, with minor changes. The changes reflect the transition to management with indicator stocks, an update to the years of landings used as the AM trigger, and clarification of when the AM trigger evaluation occurs.

For reef fish stocks and stock complexes managed under the Puerto Rico FMP, commercial and recreational landings of the stock, stock complex, or indicator stock would be evaluated relative to the corresponding commercial, recreational, or total ACLs for the stock or stock complex, as applicable, based on a moving multi-year average of landings as described below. For those stock complexes managed with an indicator stock, the ACLs (commercial, recreational, and total) for the stock complex are based on landings of the indicator stock. Therefore, the AM trigger evaluation compares indicator stock landings to the ACL. An AM would be triggered for a stock or stock complex if a sector's landings exceeded the sector-specific ACL and if the total (commercial plus recreational) landings exceeded the total (commercial plus recreational) ACL. An AM would not be triggered if NMFS determines that either ACL overage (sector-specific ACL or total ACL) resulted from improved data collection or monitoring rather than from increased catch increased. Once triggered, the AM would be applied only for the sector that exceeded its ACL.

Unlike the U.S. Caribbean-wide Reef Fish FMP, the Puerto Rico FMP provides that if landings for one sector are not available for evaluation to the sector-specific ACL, then the sectors would not be separately managed. The ACL for the sector with available data would be the ACL for that stock or stock complex. If NMFS estimates that available landings for the stock, stock complex, or indicator stock exceeded the ACL for the stock or stock complex, and if the exceedance was not due to improvements in data collection or monitoring, the AM would be triggered. Any required fishing season reduction would apply to all harvest of the stock or stock complex, whether commercial or recreational. The Puerto Rico FMP and this final rule add this authority.

As with the AM for spiny lobster under the Puerto Rico FMP, the regulatory text clarifies that the AM trigger evaluation for managed reef fish stocks and stock complexes occurs at or near the beginning of the fishing year, when landings from prior fishing years are available, and that any required fishing season reduction occurs as soon as possible thereafter. Any required fishing season reduction would be applied starting with September 30 and moving earlier towards the beginning of the fishing year (January 1), adding additional time, as necessary, from October 1, toward the end of the fishing year (December 31).

Pelagic stocks and stock complexes are not managed under the U.S. Caribbean-wide FMPs, but are managed under the Puerto Rico FMP by sector where sector-specific data are available. The Puerto Rico FMP establishes an AM for these stocks or stock complexes. For each pelagic stock and stock complex, the final rule codifies an ACT as 90 percent of the ACL that serves as the AM trigger.

Commercial and recreational landings of the pelagic stock, stock complex, or indicator stock would be evaluated relative to the commercial and recreational ACTs based on a moving multi-year average of landings as described below. The AM would be applied on a sector basis, and would be triggered when a sector's landings exceeds its ACT. The Puerto Rico FMP and these regulations provide for the unavailability of sector-specific landings. When landings for one sector are not available for comparison to that sector's ACT, the ACT for the sector with available landings would be the ACT for the stock or stock complex. Available landings would be evaluated relative to the ACT for the stock or stock complex. If NMFS estimates that available landings for the stock, stock complex, or indicator stock exceeded the ACT for the stock or stock complex, the AM would apply to all harvest of the stock or stock complex, whether commercial or recreational. If an AM is triggered, NMFS in consultation with the Council would determine appropriate corrective action, including whether corrective action is needed. Corrective action could include actions such as fishing season reductions or modifications to the ACL and would depend on many factors, including an evaluation of the cause of the exceedance and the best way to protect against future ACL exceedances.

Recreational data collection in Puerto Rico was disrupted in 2017, following Hurricanes Irma and Maria, and has not resumed. Since 2018, recreational landings for the reef fish and pelagic stocks, stock complexes, and indicator stocks are not available for comparison to the recreational ACLs and ACTs for each stock and stock complex. Thus, as described in the Puerto Rico FMP and in this final rule, the commercial ACLs and ACTs for the reef fish and pelagic stocks and stock complexes would function as the ACLs and ACTs for the stocks and stock complexes until sufficient recreational landings become available.

For stocks (queen conch, Nassau grouper, goliath grouper, giant manta ray, spotted eagle ray, and southern stingray) and stock complexes (Parrotfish 1 (blue parrotfish, midnight parrotfish, and rainbow parrotfish), Sea Cucumbers, Sea Urchins, and Corals) with harvest prohibitions in EEZ around Puerto Rico, those prohibitions serve as the AMs under the final rule. This is the same approach to management for queen conch, Nassau grouper, goliath grouper, the species in the Parrotfish 1 stock complex, and the coral species that are managed under the U.S. Caribbean-wide FMPs. The Puerto Rico FMP adopts this AM for the rays, which are new to management, and for the Sea Urchins and Sea Cucumbers stock complexes.

St. Croix AMs

The AMs for reef fish stocks and stock complexes and for spiny lobster under the St. Croix FMP are the same as the AMs for reef fish and spiny lobster under the U.S. Caribbean-wide Reef Fish and Spiny Lobster FMPs, with minor changes to the years of landings evaluated as the AM trigger. In addition, NMFS revised language to implement the AM to reflect and clarify that the AM trigger evaluation occurs at or near the beginning of the fishing year when necessary data are available. This change is consistent with the Council's intent, which is to establish an AM that relies on the best available data to prevent ACL exceedances.

Under the St. Croix FMP for reef fish stocks and stock complexes and for spiny lobster, at or near the beginning of the fishing year, landings for each stock, stock complex, or indicator stock(s) would be evaluated relative to the ACL for the stock or stock complex based on a moving multi-year average of landings, as described below. If the ACL is exceeded, and NMFS determines that the ACL overage resulted from improved data collection or monitoring rather than from increased catch, the AM would not be triggered and NMFS would not reduce the length of the fishing season for the applicable stock or stock complex. If, however, NMFS determines that the ACL overage resulted from increased catch rather than from improved data collection or monitoring, the AM would be triggered and NMFS would reduce the length of the fishing season for the applicable stock or stock complex by the amount necessary to prevent landings from exceeding the ACL.

The AMs for reef fish stocks and stock complexes and spiny lobster under the St. Croix FMP contain the same exception from the AM trigger for ACL exceedances based on improved data collection and monitoring as the AMs under the U.S. Caribbean-wide Reef Fish and Spiny Lobster FMPs. The implementing regulations clarify that the AM trigger evaluation (i.e., the comparison of landings to the ACL) is made at or near the beginning of the fishing year to better reflect when landings data are available.

As under the U.S. Caribbean-wide Reef Fish and Spiny Lobster FMPs, any required fishing season reduction would be applied starting from September 30 and moving earlier toward the beginning of the fishing year (January 1). If the length of the required fishing season reduction exceeds the time period of January 1 through September 30, any additional fishing season reduction necessary would be applied in the same fishing year, starting from October 1 and moving later toward the end of the fishing year (December 31).

Pelagic stocks are not managed under the U.S. Caribbean-wide FMPs, but are managed under the St. Croix FMP. For each pelagic stock, this final rule codifies an ACT as 90 percent of the ACL that would serve as the AM trigger. An AM would be triggered if the landings for the pelagic stock exceed the ACT based on a moving multi-year average of annual landings, as described below. If an AM is triggered, NMFS in consultation with the Council would determine appropriate corrective action, including whether corrective action is needed. Corrective action could include actions such as fishing season reductions or modifications to the ACL and would depend on many factors, including an evaluation of the cause of the exceedance and the best way to protect against future ACL exceedances.

For queen conch, as under the U.S. Caribbean-wide Queen Conch FMP, harvest would continue to be allowed in the EEZ around St. Croix east of 64°34′ W longitude during the open fishing season, November 1 through May 31. This measure was established in the 2005 Caribbean Sustainable Fisheries Act Amendment to the Queen Conch FMP (70 FR 62073; October 28, 2005). The rest of the U.S. Caribbean EEZ will continue to be closed to the harvest of queen conch. Under the St. Croix FMP, the AM for queen conch would continue to be triggered if, based on in-season monitoring, NMFS determines the queen conch ACL is reached or is projected to be reached prior to the end of the fishing season. If the AM is triggered, NMFS would close the EEZ around St. Croix east of 64°34′ W longitude to the harvest and possession of queen conch for the remainder of the fishing season. During any such closure, no person would be allowed to fish for or possess a queen conch in or from Federal waters off St. Croix.

For stocks (Nassau grouper and goliath grouper) and stock complexes (Parrotfish 1 (blue parrotfish, midnight parrotfish, and rainbow parrotfish), Sea Cucumbers, Sea Urchins, and Corals) with harvest prohibitions in the EEZ around St. Croix, those prohibitions serve as the AMs under the final rule. This is the same approach to management for Nassau grouper, goliath grouper, the species in the Parrotfish 1 stock complex, and the coral species that are managed under the U.S. Caribbean-wide FMPs. The St. Croix FMP adopts this AM for the Sea Urchins and Sea Cucumber stock complexes.

St. Thomas and St. John AMs

The AMs for reef fish stocks and stock complexes and for spiny lobster under the St. Thomas and St. John FMP are the same as the AMs for reef fish and spiny lobster under the U.S. Caribbean-wide Reef Fish and Spiny Lobster FMPs, with minor changes to the years of landings evaluated as the AM trigger. In addition, NMFS is clarifying language to implement the AM to reflect that the AM trigger evaluation occurs at or near the beginning of the fishing year when necessary data are available. This change is consistent with the Council's intent, which is to establish an AM that relies on the best available data to prevent ACL exceedances.

Under the St. Thomas and St. John FMP for reef fish stocks and stock complexes and for spiny lobster, at or near the beginning of the fishing year, landings for each stock, stock complex, or indicator stock(s) would be evaluated relative to the ACL for the stock or stock complex based on a moving multi-year average of landings, as described later. If the ACL is exceeded, and NMFS determines that the ACL overage resulted from improved data collection or monitoring rather than from increased catch, the AM would not be triggered and NMFS would not reduce the length of the fishing season for the applicable stock or stock complex. If, however, NMFS determines that the ACL overage resulted from increased catch rather than from improved data collection or monitoring, the AM would be triggered and NMFS would reduce the length of the fishing season for the applicable stock or stock complex by the amount necessary to prevent landings from exceeding the ACL.

The AMs for reef fish stocks and stock complexes and spiny lobster under the St. Thomas and St. John FMP contain the same exception from the AM trigger for ACL exceedances based on improved data collection and monitoring as the AMs under the U.S. Caribbean-wide Reef Fish and Spiny Lobster FMPs. The implementing regulations clarify that the AM trigger evaluation (i.e., the comparison of landings to the ACL) is made at or near the beginning of the fishing year to better reflect when landings data are available.

As under the U.S. Caribbean-wide Reef Fish and Spiny Lobster FMPs, any required fishing season reduction would be applied starting from September 30 and moving earlier toward the beginning of the fishing year (January 1). If the length of the required fishing season reduction exceeds the time period of January 1 through September 30, any additional fishing season reduction necessary would be applied in the same fishing year, starting from October 1 and moving later toward the end of the fishing year (December 31).

Pelagic stocks are not managed under the U.S. Caribbean-wide FMPs, but are managed under the St. Thomas and St. John FMP. For each pelagic stock, this final rule codifies an ACT as 90 percent of the ACL that serves as the AM trigger. An AM would be triggered if the landings for the pelagic stock exceed ACT based on a moving multi-year average of annual landings, as described below. If an AM is triggered, NMFS in consultation with the Council would determine appropriate corrective action, including whether corrective action is needed. Corrective action could include actions such as fishing season reductions or modifications to the ACL and would depend on many factors, including an evaluation of the cause of the exceedance and the best way to protect against future ACL exceedances.

For stocks (queen conch, Nassau grouper, and goliath grouper) and stock complexes (Parrotfish 1 (blue parrotfish, midnight parrotfish, and rainbow parrotfish), Sea Cucumbers, Sea Urchins, and Corals) with harvest prohibitions in the EEZ around St. Thomas and St. John, those prohibitions serve as the AMs under this final rule. This is the same approach to management for queen conch, Nassau grouper, goliath grouper, the species in the Parrotfish 1 stock complex, and the coral species that are managed under the U.S. Caribbean-wide FMPs. The St. Thomas and St. John FMP adopts this AM for the Sea Urchins and Sea Cucumber stock complexes.

AM Trigger and ACL Monitoring

Each of the island-based FMPs specify the moving multi-year average of landings to be used to monitor compliance with the ACLs and ACTs under the AM trigger. The FMPs state that in the first year of FMP implementation, ACL and ACTs will be monitored using a single year of landings from 2018; then a single year of landings from 2019; then a 2-year average of landings from 2019 and 2020; then a 3-year average of landings from 2019 to 2021; and thereafter a progressive running 3-year average of landings. As specified in the island-based FMPs, the Regional Administrator in consultation with the Council may deviate from the specific time sequences based on data availability. The specified years could also be updated to account for periods where landings data may be incomplete, such as for years when hurricanes impact the ability to obtain a complete set of data.

Landings data from Puerto Rico and the USVI generally are not available for comparison to the ACLs or ACTs until 1 to 2 years after the year in which the fishing activity occurred. During this transition period to management under the island-based FMPs, until available landings reflect fishing under the island-specific FMPs as opposed to under the U.S. Caribbean-wide FMPs, NMFS would evaluate if the landings available for each stock, stock complex, or indicator stock(s) would exceed the ACLs or ACTs for the stock or stock complex specified in the island-based FMPs as the AM trigger. Once landings data from 3 years from when the island-based FMPs and ACLs are in place are available, NMFS would evaluate whether landings for each stock, stock complex, or indicator stock(s) exceeded the ACL or ACT for each stock or stock complex specified under the island-based FMPs. In all cases, if an AM is triggered, the AM would be applied as described previously.

Essential Fish Habitat

In addition to the management measures that this final rule implements through the regulations, the island-based FMPs include actions to identify essential fish habitat (EFH) for species new to management that NMFS will implement but not codify through regulations.

The EFH designations for species and species groups that were managed under the U.S. Caribbean-wide FMPs and are included for management under the respective Puerto Rico FMP, St. Croix FMP, and St. Thomas and St. John FMP remain as currently described in the 2005 Caribbean Sustainable Fisheries Act Amendment. These descriptions are included in each of the island-based FMPs. For species new to management, each island-based FMP describes and identifies EFH according to functional relationships between life history stages of the species and marine and estuarine habitats, based on best scientific information available.

Framework Procedures

The framework procedures for the U.S. Caribbean-wide Reef Fish, Spiny Lobster, Queen Conch, and Coral FMPs provided the Council and NMFS the flexibility to expeditiously adjust management options to respond to changing fishery conditions or new scientific information. This final rule updates the framework procedures under each island-based FMP to establish the basis for a broader range of management measures that can be approved by the Council and implemented by NMFS through the framework process. The framework procedures for each island-based FMP and in this final rule are identical for each island management area. Certain future proposed actions could be implemented either by an open abbreviated framework, an open standard framework, or through a closed framework procedure, as applicable. Each island-based FMP describes and provides the open and closed framework procedures and the differences from a full FMP amendment process. Some of the management measures to be adjusted through framework procedures include re-specification of SDC and other management reference points, modification of seasonal, year-round, or area closures, commercial trip limits, recreational bag and possession limits, size limits, or allowable fishing gear.

Additional Changes to Codified Text Not in the Island-Based FMPs

NMFS is revising the authorized gear table in 50 CFR 600.725(v) under V. Caribbean Fishery Management Council, to incorporate changes to the organization of federally managed fisheries and gear descriptions under the island-based FMPs.

Currently, the authorized gear table at 50 CFR 600.725(v) under V subdivides the U.S. Caribbean fisheries by whether the fishery is managed under an FMP or not. Each fishery is then subdivided into fishery components by fishing gear type (e.g., trap/pot, longline/hook and line, etc.) or sector (i.e., commercial or recreational), and the authorized gear types are specified for these fishery components.

NMFS is revising the gear table to reflect the transition to island-based fishery management. Within the gear table for the U.S. Caribbean, the fisheries are described by island area, and then by whether the fishery is managed under an FMP. Each fishery is then broken into components by fishing gear type or sector, as appropriate. As with the current table, the authorized gear types are specified for each fishery component.

In this final rule, NMFS clarifies and makes consistent the description of the authorized gear for all fisheries. For example, NMFS is specifying the individual hook and line gear types authorized rather than listing “hook and line” as an authorized gear. Under 50 CFR 622.2, hook and line gear means automatic reel, bandit gear, buoy gear, handline, longline, and rod and reel. The authorized gear table lists those gear types as authorized, rather than the more general “hook and line.” Further, NMFS clarifies that trap and pot gear is an authorized recreational gear type for the reef fish and spiny lobster fisheries managed under each of the island-based FMPs.

In addition, NMFS is making additional clarifying and non-substantive changes to regulations in part 622 through this final rule. For example, to account for management measures that occur in leap years, NMFS revises language currently at 50 CFR 622.435(a)(2)(ii), which describes the annual seasonal closure for the red hind spawning aggregation areas off Puerto Rico and St. Croix, from “through February 28 each year,” to “through the last day of February each year.” The seasonal closure, with this updated language, is included in the subparts containing the regulations implementing the Puerto Rico FMP and the St Croix FMP.

This final rule updates the cross references to the subparts in 50 CFR part 622 to reflect changes to implement the island-based FMPs where there will be three U.S. Caribbean specific subparts instead of four as in the current regulations. This final rule amends the import restrictions regulatory language for queen conch to reflect the change to island-based management. At 50 CFR 622.2, this final rule revises the definition of fish trap in the U.S. Caribbean EEZ consistent with the island-based FMPs. The vessel color code requirements at 50 CFR 622.6(a)(2) are clarified to reflect a change in how the fisheries are described and identified under the island-based FMPs. The landing fish intact provisions at 50 CFR 622.10(b) are updated to clarify the requirements for highly migratory species. This final rule also clarifies the St. Croix queen conch prohibition at 50 CFR 622.479(b)(4) to state that the prohibition applies whether or not queen conch are on a vessel, but also in a person's possession.

Further, NMFS is revising appendix A to part 622 that currently lists federally managed species in the U.S. Caribbean. NMFS is removing the species tables applicable to the previous U.S. Caribbean-wide FMPs. This final rule specifies the federally managed species for Puerto Rico, St. Croix, and St. Thomas and St. John in subparts S, T, and U, respectively. As a result of removing U.S. Caribbean species tables from appendix A to part 622, NMFS is also revising the numbering for the tables of Gulf of Mexico reef fish, South Atlantic snapper-grouper, and Atlantic dolphin and wahoo species.

Changes in This Final Rule From the Proposed Rule

Subsequent to the publication of the proposed rule for the island-based FMPs, NMFS became aware of an error within an amendatory instruction of the proposed rule's codified text (87 FR 30730; May 19, 2022). Amendatory instruction 23 contained an incorrect regulatory reference in the instruction. In the proposed rule, instruction 23 states “In addition to the amendments to this part, remove all references to “622.413” and add, in their place, “622.419” in the following sections in 50 CFR: 622.55(e); 622.382(a)(1)(i)(B); 622.400(a)(1)(i); 622.402(a)(1), (2), and (3) and (c)(1); 622.403(b)(3)(i); 622.404(e) and (f); and 622.405(b)(2)(i). In the proposed rule and in this final rule, 50 CFR 622.413, “Incorporation by reference,” in subpart R of part 622 is moved to 50 CFR 622.19, subpart A of part 622. Amendatory instruction 23 is corrected in this final rule to refer to “622.19” instead of “622.419.”

No other changes to this final rule have been made from the proposed rule.

Comments and Responses

NMFS received five comments on the notice of availability for the island-based FMPs and two comments on the proposed rule. Comment submissions were from members of the general public and a non-profit legal organization. The majority of the comments were in support of some or all of the actions within the FMPs.

One comment received on the proposed rule recommended a prohibition on commercial fishing. The Council did not take any action in the island-based FMPs to prohibit commercial fishing and NMFS has not taken any action to implement such a measure in this final rule. NMFS does not find it appropriate to exercise its authority under the Magnuson-Stevens Act to prohibit commercial fishing in this final rule.

NMFS has not made any changes from the proposed rule to this final rule based on public comment.

Comments specific to the island-based FMPs and the proposed rule are grouped as appropriate and summarized below, each followed by NMFS' respective responses.

Comment 1: Spearfishing should not be prohibited for the recreational harvest of reef fish in the Puerto Rico FMP. There is no evidence that spearfishing has a high impact on reef fish populations and spearfishing is the least invasive and most selective of the fishing methods. Prohibiting recreational spearfishing for reef fish but not prohibiting other fishing gear types, particularly those used by commercial fishers, demonstrates a biased approach to conservation not based on science.

Response: NMFS clarifies that the Puerto Rico FMP does not prohibit the recreational use of spearfishing gear for the harvest of reef fish in Puerto Rico. The Council's unofficial Spanish translation of Chapter 5 of the Puerto Rico FMP, published on the Council's website, included an incomplete list of gear authorized for recreational harvest of reef fish, omitting spears. After NMFS published the notice of availability and received this comment, the Council corrected the translation error and posted a revised translation of Chapter 5 of the Puerto Rico FMP on its website: https://caribbeanfmc.com/FMP_Island_Based_2019/EA_FMP_Puerto_Rico_ESPANOL.pdf. Under the Puerto Rico FMP and this final rule implementing the FMP, spear is an allowable gear type for use by the recreational sector for the harvest of reef fish.

Comment 2: The Puerto Rico FMP does not manage forage species and predatory functional groups and therefore is not consistent with the NMFS priority of taking an ecosystem-based approach to fisheries management in the region. The lack of species-specific data for forage and top predator species such as sharks and rays from waters under Council jurisdiction should not be a reason for not managing these species under the Puerto Rico FMP.

Response: The Puerto Rico FMP does not manage forage species and predatory functional groups. However, NMFS manages highly migratory species such as sharks, Atlantic tunas, swordfish, and billfish, under delegated authority from the Secretary of Commerce (Secretary), through the 2006 Consolidated Highly Migratory Species FMP (71 FR 58058; October 2, 2006), as amended. Action 2, Preferred Alternative 2 of each of the island-based FMPs sets forth the stepwise process that the Council applied to identify species in need of conservation and management. This process accounts for the ecological value of the species (See Criterion C), and complies with the Magnuson-Stevens Act section 302(h)(1). In the future, the Council may choose to identify and include stocks within the FMPs as ecosystem component (EC) species that do not require conservation and management, and adopt management measures to address ecosystem issues, but such management is not required (50 CFR 600.305(c)(5)).

For example, the Council is currently developing a Fishery Ecosystem Plan that among other items, would address the role of forage species and predatory functional groups in the U.S. Caribbean. The Council and NMFS expect that the Fishery Ecosystem Plan would serve as a source document for the Council to guide future management actions pursued under each of the island-based FMPs, including potentially a decision to manage additional species with important ecosystem value.

Comment 3: The scalloped hammerhead population recently listed as threatened under the Endangered Species Act (ESA) should have been included in the Puerto Rico FMP as this species can be impacted as bycatch from pelagic long line fisheries allowed in the Puerto Rico EEZ.

Response: The ESA-listed scalloped hammerhead shark is a highly migratory species whose range includes the geographical authority of more than one fishery management council. Therefore, under the Magnuson-Stevens Act, NMFS, under delegated authority from the Secretary, not the Council, has the authority to manage this highly migratory species (Magnuson-Stevens Act sections 302(a)(3) and 3(21)). NMFS has exercised its authority to manage scalloped hammerhead sharks as an Atlantic Highly Migratory Species under the 2006 Consolidated Highly Migratory Species FMP, as amended.

Comment 4: In the Puerto Rico FMP and the St. Thomas and St. John FMP, the Council did not cite to or rely on certain published reports, including Council-funded research, about the ESA-listed Nassau grouper spawning activities in certain spawning sites in Puerto Rico and St. Thomas, USVI in relation to lunar cycles. The Council should re-consider the timing of the seasonal closure in the Council-managed spawning areas (e.g., Bajo de Sico, Puerto Rico, Grammanik Bank, St. Thomas, USVI) to encompass Nassau grouper spawning activity that may occur beyond the seasonal closure dates.

Response: The Council and NMFS established seasonal spawning closures to protect spawning fish resources, including groupers, during the identified peak spawning periods in Puerto Rico and the USVI. For example, the Bajo de Sico seasonal closure in western Puerto Rico, was established in 1996 to protect spawning aggregations of red hind grouper during their peak spawning period of December through February (61 FR 64485; December 5, 1996). Bajo de Sico also has been identified as an important spawning aggregation site for other snappers and groupers, including the Nassau grouper. In 2010, NMFS and the Council modified the Bajo de Sico seasonal closure from a 3-month closure (December through February) to a 6-month closure (October through March) to protect other Council-managed reef fish that may be aggregating in the area to spawn, including Nassau grouper (75 FR 67247; November 2, 2010). The Grammanik Bank seasonal closure in southern St. Thomas, USVI, was established in 2005 to protect a spawning aggregation of the yellowfin grouper during its peak spawning period of February through April (70 FR 62073; October 28, 2005). Similar to Bajo de Sico, areas within the Grammanik Bank have also been identified as multi-species spawning aggregation sites, including for Nassau grouper. The Council did not seek to modify the seasonal closure period for the Bajo de Sico or Grammanik Bank managed areas in the Puerto Rico or St. Thomas and St John FMP. However, the Council is currently developing a Fishery Ecosystem Plan that would incorporate the most recent information available with respect to the spawning activities of the Nassau grouper. Although the island-based FMPs and this final rule do not revise the time period for the spawning seasonal closures at Bajo de Sico and the Grammanik Bank, NMFS expects that the Fishery Ecosystem Plan would serve as a source document for the Council to guide future management actions under each of the island-based FMPs, as needed. This could include evaluating and revising the current seasonal closures under the island-based FMPs.

NMFS notes that fishing for the Nassau grouper has been prohibited in Caribbean Federal waters since 1990, and the Council has implemented many other measures to protect not only the fish resource but also the habitat that supports these aggregations.

Comment 5: The proposed rule is invalid because it results from the Council process, which is legally invalid. The Council process under the Magnuson-Stevens Act violates the Appointments, Executive Vesting, and Take Care clauses of the U.S. Constitution and, as a result, any rule resulting from the Council process is legally invalid.

Response: This rulemaking is legally valid and consistent with the Magnuson-Stevens Act, which also is constitutional and legally valid. This final rule implements the island-based FMPs, which NMFS, through delegation of authority from the Secretary, has approved as consistent with the Magnuson-Stevens Act and other applicable law. Under Section 304 of the Magnuson-Stevens Act, NMFS, acting through delegated authority from the Secretary, retains significant discretion to reject Council recommendations, including the proposed regulations that the Council submitted to NMFS to implement the island-based FMPs. In addition, it is NMFS, not the Council, that has the authority to promulgate regulations to implement an approved FMP. Fishery management councils are not considered Federal agencies for the purposes of the Administrative Procedures Act. For this reason, the Council process under the Magnuson-Stevens Act is consistent with the U.S. Constitution. This rulemaking, therefore, is not legally invalid for resulting from the advisory Council process established in the Magnuson-Stevens Act.

Incorporation by Reference

NMFS created § 622.413 as a centralized incorporation by reference (IBR) section—essentially a section which contained the information about material approved for IBR and the sections where that material was approved for use (the outlying sections). Redesignating that section to § 622.19 does not change the material or the approval for any of the outlying sections.

Classification

Pursuant to section 304(b)(3) of the Magnuson-Stevens Act, the NMFS Assistant Administrator has determined that this final rule is consistent with the island-based FMPs, the Magnuson-Stevens Act, and other applicable law.

This final rule has been determined to be not significant for purposes of Executive Order 12866.

The Magnuson-Stevens Act provides the statutory basis for this final rule. No duplicative, overlapping, or conflicting Federal rules have been identified. In addition, no new reporting or recordkeeping requirements are introduced by this final rule. This final rule contains no information collection requirements under the Paperwork Reduction Act of 1995. A description of this final rule, why it is being considered, and the purposes of this final rule are contained earlier in the SUMMARY and SUPPLEMENTARY INFORMATION sections of this final rule.

The Chief Counsel for Regulation of the Department of Commerce certified to the Chief Counsel for Advocacy of the Small Business Administration during the proposed rule stage that this action would not have a significant adverse economic impact on a substantial number of small entities. The factual basis for this determination was published in the proposed rule and is not repeated here. None of the public comments received addressed the certification and NMFS has not received any new information that would affect its determination that this rule would not have a significant economic impact on a substantial number of small entities. As a result, a final regulatory flexibility analysis was not required and none was prepared.

List of Subjects

50 CFR Part 600

Caribbean, Commercial, Fisheries, Fishing, Recreational.

50 CFR Part 622

Caribbean, Commercial, Fisheries, Fishing, Incorporation by Reference, Recreational.

Dated: September 2, 2022.
Samuel D. Rauch, III,
Deputy Assistant Administrator for Regulatory Programs, National Marine Fisheries Service.

For the reasons set out in the preamble, 50 CFR parts 600 and 622 are amended as follows:

PART 600—MAGNUSON-STEVENS ACT PROVISIONS

1. The authority citation for part 600 continues to read as follows:

Authority: 5 U.S.C. 561 and 16 U.S.C. 1801 et seq.

2. In § 600.725(v), in the table, revise the entries under “V. Caribbean Fishery Management Council” to read as follows:

§ 600.725 General prohibitions.

* * * * *

(v) * * *

Fishery | Authorized gear types
* * * * * * *
V. Caribbean Fishery Management Council
1. Exclusive Economic Zone around Puerto Rico
A. Puerto Rico Reef Fish Fishery (FMP):
i. Commercial fishery | i. Automatic reel, bandit gear, buoy gear, handline, longline, rod and reel, trap, pot, spear.
ii. Recreational fishery | ii. Dip net, handline, rod and reel, slurp gun, spear, trap, pot.
B. Puerto Rico Pelagic Fishery (FMP):
i. Commercial fishery | i. Automatic reel, bandit gear, buoy gear, handline, longline, rod and reel, gillnet.
ii. Recreational fishery | ii. Spear, handline, longline, rod and reel.
C. Puerto Rico Spiny Lobster Fishery (FMP):
i. Commercial fishery | i. Trap, pot, dip net, hand harvest, snare.
ii. Recreational fishery | ii. Trap, pot, dip net, hand harvest, snare.
D. Puerto Rico Coral Reef Resources Fishery (FMP): | No harvest or possession in the EEZ.
E. Puerto Rico Queen Conch Fishery (FMP): | No harvest or possession in the EEZ.
F. Puerto Rico Pelagic Fishery (Non-FMP):
i. Commercial fishery | i. Gillnet, automatic reel, bandit gear, buoy gear, handline, longline, rod and reel.
ii. Recreational fishery | ii. Spear, handline, longline, rod and reel.
G. Puerto Rico Commercial Fishery (Non-FMP) | Automatic reel, bandit gear, buoy gear, handline, longline, rod and reel, trawl, gillnet, cast net, spear.
H. Puerto Rico Recreational Fishery (Non-FMP) | Automatic reel, bandit gear, buoy gear, handline, longline, rod and reel, spear, powerhead, hand harvest, cast net.
2. Exclusive Economic Zone around St. Croix
A. St. Croix Reef Fish Fishery (FMP):
i. Commercial fishery | i. Automatic reel, bandit gear, buoy gear, handline, longline, rod and reel, trap, pot, spear.
ii. Recreational fishery | ii. Dip net, handline, rod and reel, slurp gun, spear, trap, pot.
B. St. Croix Pelagic Fishery (FMP):
i. Commercial fishery | i. Gillnet, automatic reel, bandit gear, buoy gear, handline, longline, rod and reel.
ii. Recreational fishery | ii. Spear, handline, longline, rod and reel.
C. St. Croix Spiny Lobster Fishery (FMP):
i. Commercial fishery | i. Trap, pot, dip net, hand harvest, snare.
ii. Recreational fishery | ii. Trap, pot, dip net, hand harvest, snare.
D. St. Croix Coral Reef Resource Fishery (FMP): | No harvest or possession in the EEZ.
E. St. Croix Queen Conch Fishery (FMP):
i. Commercial fishery | i. Hand harvest.
ii. Recreational fishery | ii. Hand harvest.
F. St. Croix Pelagic Fishery (Non-FMP):
i. Commercial fishery | i. Gillnet, automatic reel, bandit gear, buoy gear, handline, longline, rod and reel.
ii. Recreational fishery | ii. Spear, handline, longline, rod and reel.
G. St. Croix Commercial Fishery (Non-FMP) | Automatic reel, bandit gear, buoy gear, handline, longline, rod and reel, trawl, gillnet, cast net, spear.
H. St. Croix Recreational Fishery (Non-FMP) | Automatic reel, bandit gear, buoy gear, handline, longline, rod and reel, spear, powerhead, hand harvest, cast net.
3. Exclusive Economic Zone around St. Thomas and St. John
A. St. Thomas and St. John Reef Fish Fishery (FMP):
i. Commercial fishery | i. Automatic reel, bandit gear, buoy gear, handline, longline, rod and reel, trap, pot, spear.
ii. Recreational fishery | ii. Dip net, handline, rod and reel, slurp gun, spear, trap, pot.
B. St. Thomas and St. John Pelagic Fishery (FMP):
i. Commercial fishery | i. Automatic reel, bandit gear, buoy gear, handline, longline, rod and reel, gillnet.
ii. Recreational fishery | ii. Spear, handline, longline, rod and reel.
C. St. Thomas and St. John Spiny Lobster Fishery (FMP):
i. Commercial fishery | i. Trap, pot, dip net, hand harvest, snare.
ii. Recreational fishery | ii. Trap, pot, dip net, hand harvest, snare.
D. St. Thomas and St. John Coral Reef Resource Fishery (FMP): | No harvest or possession in the EEZ.
E. St. Thomas and St. John Queen Conch Fishery (FMP): | No harvest or possession in the EEZ.
F. St. Thomas and St. John Pelagic Fishery (Non-FMP):
i. Commercial fishery | i. Gillnet, automatic reel, bandit gear, buoy gear, handline, longline, rod and reel.
ii. Recreational fishery | ii. Spear, handline, longline, rod and reel.
G. St. Thomas and St. John Commercial Fishery (Non-FMP) | Automatic reel, bandit gear, buoy gear, handline, longline, rod and reel, trawl, gillnet, cast net, spear.
H. St. Thomas and St. John Recreational Fishery (Non-FMP) | Automatic reel, bandit gear, buoy gear, handline, longline, rod and reel, spear, powerhead, hand harvest, cast net.
* * * * * * *

* * * * *

PART 622—FISHERIES OF THE CARIBBEAN, GULF OF MEXICO, AND SOUTH ATLANTIC

3. The authority citation for part 622 continues to read as follows:

Authority: 16 U.S.C. 1801 et seq.

4. Amend § 622.1 by:

a. Revising paragraph (c); and

b. In Table 1:

i. Removing the entry for “FMP for Corals and Reef Associated Plants and Invertebrates of Puerto Rico and the U.S. Virgin Islands”;

ii. Adding entries for “FMP for the Exclusive Economic Zone around Puerto Rico”, “FMP for the Exclusive Economic Zone around St. Croix”, and “FMP for the Exclusive Economic Zone around St. Thomas and St. John” in alphabetical order; and

iii. Removing the entries for “FMP for Queen Conch Resources of Puerto Rico and the U.S. Virgin Islands”, “FMP for the Reef Fish Fishery of Puerto Rico and the U.S. Virgin Islands”, and “FMP for the Spiny Lobster Fishery of Puerto Rico and the U.S. Virgin Islands”.

The revision and additions read as follows:

§ 622.1 Purpose and scope.

* * * * *

(c) This part also governs the importation of spiny lobster into Puerto Rico or the U.S. Virgin Islands.

* * * * *

Table 1 to § 622.1—FMPs Implemented Under Part 622
FMP title | Responsible fishery management council(s) | Geographical area
* * * * * * *
FMP for the Exclusive Economic Zone around Puerto Rico | CFMC | Caribbean.
FMP for the Exclusive Economic Zone around St. Croix | CFMC | Caribbean.
FMP for the Exclusive Economic Zone around St. Thomas and St. John | CFMC | Caribbean.
* * * * * * *

* * * * *

5. Amend § 622.2 by:

a. Removing the definitions of “Caribbean coral reef resource”, “Caribbean prohibited coral”, “Caribbean queen conch”, “Caribbean reef fish”, and “Caribbean spiny lobster or spiny lobster”;

b. Revising paragraph (1) in the definition for “Fish trap” and paragraph (1) in the definition for “Import”; and

c. Adding, in alphabetical order, the definition for “Spiny lobster”.

The revisions and addition read as follows:

§ 622.2 Definitions and acronyms.

* * * * *

Fish Trap * * *

(1) In the Caribbean EEZ, a trap and its component parts, including the lines and buoys, regardless of the construction material, used for or capable of taking finfish. This does not include a spiny lobster trap as defined in subparts S, T, and U of this part.

* * * * *

Import * * *

(1) For the purpose of § 622.1(c) and subparts S, T, and U of this part only—To land on, bring into, or introduce into, or attempt to land on, bring into, or introduce into, Puerto Rico or the U.S. Virgin Islands, whether or not such landing, bringing, or introduction constitutes an importation within the meaning of the customs laws of the United States;

* * * * *

Spiny lobster means the species Panulirus argus, or a part thereof.

* * * * *

6. In § 622.4, revise the introductory text and paragraphs (b) and (f)(1) to read as follows:

§ 622.4 Permits and fees—general.

This section contains general information about procedures related to permits. See also §§ 622.70 and 622.220 regarding certain permit procedures unique to coral permits in the Gulf of Mexico and the South Atlantic, respectively. See subpart F of this part for permit requirements related to aquaculture of species other than live rock. Permit requirements for specific fisheries, as applicable, are contained in the permit sections within subparts B through U of this part.

* * * * *

(b) Change in application information. The owner or operator of a vessel with a permit, a person with a coral permit, a person with an operator permit, or a dealer with a permit must notify the RA within 30 days after any change in the application information specified in paragraph (a) of this section or in § 622.70(b), § 622.220(b), or § 622.400(b). The permit is void if any change in the information is not reported within 30 days.

* * * * *

(f) * * *

(1) Vessel permits, licenses, and endorsements and dealer permits. A vessel permit, license, or endorsement or a dealer permit or endorsement issued under this part is not transferable or assignable, except as provided in the permits sections within subparts B through U of this part, where applicable. A person who acquires a vessel or dealership who desires to conduct activities for which a permit, license, or endorsement is required must apply for a permit, license, or endorsement in accordance with the provisions of this section and other applicable sections of this part. If the acquired vessel or dealership is currently permitted, the application must be accompanied by the original permit, and a copy of a signed bill of sale or equivalent acquisition papers. In those cases where a permit, license, or endorsement is transferable, the seller must sign the back of the permit, license, or endorsement and have the signed transfer document notarized.

* * * * *

7. In § 622.5, revise the introductory text and paragraph (a) and paragraph (b) introductory text to read as follows:

§ 622.5 Recordkeeping and reporting—general.

This section contains recordkeeping and reporting requirements that are broadly applicable, as specified, to most or all fisheries governed by this part. Additional recordkeeping and reporting requirements specific to each fishery are contained in the respective subparts B through U of this part.

(a) Collection of additional data and fish inspection. In addition to data required to be reported as specified in subparts B through U of this part, as applicable, additional data will be collected by authorized statistical reporting agents and by authorized officers. A person who fishes for or possesses species in or from the EEZ governed in this part is required to make the applicable fish or any part thereof available for inspection by the SRD or an authorized officer on request.

(b) Commercial vessel, charter vessel, and headboat inventory. The owner or operator of a commercial vessel, charter vessel, or headboat operating in a fishery governed in this part who is not selected to report by the SRD under the recordkeeping and reporting requirements in subparts B through U of this part, must provide the following information when interviewed by the SRD:

* * * * *

8. In § 622.6, revise the introductory text of paragraphs (a)(1) and (2) to read as follows:

§ 622.6 Vessel identification.

* * * * *

(a) * * *

(1) Official number. A vessel for which a permit has been issued under subparts B through U of this part, except for subpart R, and a vessel that fishes for or possesses pelagic sargassum in the South Atlantic EEZ, must display its official number—

* * * * *

(2) Official number and color code. The following vessels must display their official number as specified in paragraph (a)(1) of this section and, in addition, must display their assigned color code: A vessel for which a permit has been issued to fish with a sea bass pot, as required under § 622.170(a)(1); and, in the EEZ around Puerto Rico, St. Croix, or St. Thomas and St. John, a vessel fishing commercially with traps for reef fish, as defined in subparts S through U of this part, or a vessel fishing for spiny lobster, when color codes are required and have been assigned to the vessel by Puerto Rico or the U.S. Virgin Islands, as applicable. Color codes required for vessels fishing in the EEZ around Puerto Rico, St. Croix, or St. Thomas and St. John are assigned by Puerto Rico or the U.S. Virgin Islands, as applicable. Color codes required in all other fisheries are assigned by the RA. The color code must be displayed—

* * * * *

9. Revise § 622.8 to read as follows:

§ 622.8 Quotas—general.

(a) Applicability. Quotas apply for the fishing year for each species, species group, sector, or sector component unless accountability measures are implemented during the fishing year pursuant to the applicable annual catch limits (ACLs) and accountability measures (AMs) sections within subparts B through U of this part due to a quota overage occurring in the previous year, in which case a reduced quota will be specified through notification in the Federal Register. Annual quota increases are contingent on the total allowable catch for the applicable species not being exceeded in the previous fishing year. If the total allowable catch is exceeded in the previous fishing year, the RA will file a notification with the Office of the Federal Register to maintain the quota for the applicable species, species group, sector, or sector component from the previous fishing year for following fishing years unless NMFS determines based upon the best scientific information available that maintaining the quota from the previous year is unnecessary. Except for the quotas for Gulf and South Atlantic coral, the quotas include species harvested from state waters adjoining the EEZ.

(b) Quota closures. When a quota specified in this part is reached or is projected to be reached, the Assistant Administrator will file a notification to that effect with the Office of the Federal Register. On and after the effective date of such notification, for the remainder of the fishing year, the applicable closure restrictions for such a quota, as specified in this part apply. See the applicable ACLs, annual catch targets (ACTs), and AMs sections in subparts B through U of this part for closure provisions when an applicable ACL or ACT is reached or projected to be reached.

(c) Reopening. When a species, species group, sector, or sector component has been closed based on a projection of the quota specified in this part, or the ACL specified in the applicable ACL and accountability measures sections of subparts B through U of this part being reached and subsequent data indicate that the quota or ACL was not reached, the Assistant Administrator may file a notification to that effect with the Office of the Federal Register. Such notification may reopen the species, species group, sector, or sector component to provide an opportunity for the quota or ACL to be harvested.

10. In § 622.9, revise the introductory text and paragraph (b) to read as follows:

§ 622.9 Prohibited gear and methods—general.

This section contains prohibitions on use of gear and methods that are of general applicability, as specified. Additional prohibitions on use of gear and methods applicable to specific species or species groups are contained in subparts B through U of this part.

* * * * *

(b) Chemicals and plants. A toxic chemical may not be used or possessed in a coral area.

* * * * *

11. In § 622.10, revise the introductory text and paragraph (b) to read as follows:

§ 622.10 Landing fish intact—general.

This section contains requirements for landing fish intact that are broadly applicable to finfish in the Gulf EEZ and Caribbean EEZ, as specified. See subparts B through U of this part, as applicable, for additional species-specific requirements for landing fish intact.

* * * * *

(b) Atlantic highly migratory species, such as tunas, billfishes (marlins, spearfishes, and swordfish), and oceanic sharks are not subject to the requirements of paragraph (a) of this section. See 50 CFR part 635 for any requirements applicable to landing Atlantic highly migratory species intact.

* * * * *

12. Revise § 622.11 to read as follows:

§ 622.11 Bag and possession limits—general applicability.

This section describes the general applicability provisions for bag and possession limits specified in subparts B through U of this part.

(a) Applicability. (1) The bag and possession limits apply for a species or species group in or from the EEZ. Unless specified otherwise, bag limits apply to a person on a daily basis, regardless of the number of trips in a day. Unless specified otherwise, a person is limited to a single bag limit for a trip lasting longer than one calendar day. Unless specified otherwise, possession limits apply to a person on a trip after the first 24 hours of that trip. The bag and possession limits apply to a person who fishes in the EEZ in any manner, except a person on a vessel in the EEZ that has on board the commercial vessel permit required under this part for the appropriate species or species group. The possession of a commercial vessel permit notwithstanding, the bag and possession limits apply when the vessel is operating as a charter vessel or headboat. A person who fishes in the EEZ may not combine a bag limit specified in subparts B through U of this part with a bag or possession limit applicable to state waters. A species or species group subject to a bag limit specified in subparts B through U of this part and taken in the EEZ by a person subject to the bag limits may not be transferred at sea, regardless of where such transfer takes place, and such fish may not be transferred in the EEZ. The operator of a vessel that fishes in the EEZ is responsible for ensuring that the bag and possession limits specified in subparts B through U of this part are not exceeded.

(2) [Reserved]

(b) [Reserved]

§ 622.12 [Removed and Reserved]

13. Remove and reserve § 622.12.

§ 622.413 [Redesignated as § 622.19]

14. Redesignate § 622.413 as § 622.19 in subpart A.

15. In newly redesignated § 622.19, revise paragraphs (a) and (b)(7) and (8) to read as follows:

§ 622.19 Incorporation by reference.

(a) Certain material is incorporated by reference into this part with the approval of the Director of the Federal Register in accordance with 5 U.S.C. 552(a) and 1 CFR part 51. To enforce any edition other than that specified in this section, NMFS must publish a document in the Federal Register and the material must be available to the public. All approved material is available for inspection at NMFS and at the National Archives and Records Administration (NARA). Contact NMFS at: NMFS, Office of Sustainable Fisheries, 1315 East-West Highway, Silver Spring, MD; 301-427-8500; www.fisheries.noaa.gov/about/office-sustainable-fisheries. For information on the availability of this material at NARA, email: fr.inspection@nara.gov, or go to: www.archives.gov/federal-register/cfr/ibr-locations.html. The material may be obtained from the source(s) in paragraphs (b) and (c) of this section.

(b) * * *

(7) F.A.C., Chapter 68B-55: Trap retrieval and trap debris removal, Rule 68B-55.002: Retrieval of Trap Debris, in effect as of October 15, 2007, IBR approved for §§ 622.402(c) and 622.403(b).

(8) F.A.C., Chapter 68B-55: Trap retrieval and trap debris removal, Rule 68B-55.004: Retrieval of Derelict and Traps Located in Areas Permanently Closed to Trapping, in effect as of October 15, 2007, IBR approved for §§ 622.402(c) and 622.403(b).

* * * * *

16. In § 622.409, revise paragraphs (a) introductory text and (a)(2) to read as follows:

§ 622.409 Spiny lobster import prohibitions.

(a) Minimum size limits for imported spiny lobster. Multiple minimum size limits apply to the importation of spiny lobster into the United States—one that applies any place subject to the jurisdiction of the United States other than Puerto Rico or the U.S. Virgin Islands, and more restrictive minimum size limits that apply to Puerto Rico, St. Croix, and St. Thomas and St. John, respectively.

* * * * *

(2) See subparts S, T, and U of this part for the more restrictive minimum size limits that apply to spiny lobster imported into Puerto Rico, St. Croix, and St. Thomas and St. John, respectively.

* * * * *

17. Revise subparts S, T, and U to read as follows:

Subpart S—FMP for the EEZ around Puerto Rico
Sec.
622.430 Management area.
622.431 Definitions.
622.432 [Reserved]
622.433 Vessel identification.
622.434 Gear identification.
622.435 Trap construction specifications and tending restrictions.
622.436 Anchoring restrictions.
622.437 Prohibited gear and methods.
622.438 Prohibited species.
622.439 Area and seasonal closures.
622.440 Annual catch limits (ACLs), annual catch targets (ACTs), and accountability measures (AMs).
622.441 Size limits.
622.442 [Reserved]
622.443 Restrictions on sale or purchase.
622.444 Bag and possession limits.
622.445 Other harvest restrictions.
622.446 Spiny lobster import prohibitions.
622.447 Adjustment of management measures.
Subpart T—FMP for the EEZ around St. Croix
Sec.
622.470 Management area.
622.471 Definitions.
622.472 [Reserved]
622.473 Vessel identification.
622.474 Gear identification.
622.475 Trap construction specifications and tending restrictions.
622.476 Anchoring restrictions.
622.477 Prohibited gear and methods.
622.478 Prohibited species.
622.479 Area and seasonal closures.
622.480 Annual catch limits (ACLs), annual catch targets (ACTs), and accountability measures (AMs).
622.481 Size limits.
622.482 Commercial trip limits.
622.483 Restrictions on sale or purchase.
622.484 Bag and possession limits.
622.485 Other harvest restrictions.
622.486 Spiny lobster import prohibitions.
622.487 Adjustment of management measures.
Subpart U—FMP for the EEZ around St. Thomas and St. John
Sec.
622.505 Management area.
622.506 Definitions.
622.507 [Reserved]
622.508 Vessel identification.
622.509 Gear identification.
622.510 Trap construction specifications and tending restrictions.
622.511 Anchoring restrictions.
622.512 Prohibited gear and methods.
622.513 Prohibited species.
622.514 Area and seasonal closures.
622.515 Annual catch limits (ACLs), annual catch targets (ACTs), and accountability measures (AMs).
622.516 Size limits.
622.517 [Reserved]
622.518 Restrictions on sale or purchase.
622.519 Bag and possession limits.
622.520 Other harvest restrictions.
622.521 Spiny lobster import prohibitions.
622.522 Adjustment of management measures.

Subpart S—FMP for the EEZ around Puerto Rico

§ 622.430 Management area.

The management area is the EEZ around Puerto Rico bounded by rhumb lines connecting the following points and geographic instructions in order:

Table 1 to § 622.430
Point | North lat. | West long.
A (intersects with the international and EEZ boundary) | 19°37′29″ | 65°20′57″
B | 18°25′46.3015″ | 65°06′31.866″
From Point B proceed southerly along the 3-nautical mile territorial boundary of the St. Thomas and St. John island group to Point C |  |
C | 18°13′59.0606″ | 65°05′33.058″
D | 18°01′16.9636″ | 64°57′38.817″
E | 17°30′00.000″ | 65°20′00.1716″
F | 16°02′53.5812″ | 65°20′00.1716″
From Point F proceed along the international and EEZ boundary southwesterly, then northerly, then easterly, and finally southerly to Point A |  |
A (intersects with the International and EEZ boundary) | 19°37′29″ | 65°20′57″

§ 622.431 Definitions.

In addition to the definitions and acronyms in § 622.2, the terms and acronyms used in this subpart have the following meanings:

Coral means any or all species, or a part thereof, of coral occurring in the EEZ around Puerto Rico, including any or all species, or a part thereof, of soft corals and gorgonians in Order Alcyonacea; sea pens and sea pansies in Order Pennatulacea; black corals in Order Antipatharia; stony corals in Order Scleractinia; and, within Order Anthoatheacata, fire corals in Family Milleporidae and lace corals in Family Stylasteridae.

Coral reef resource means any or all species, or a part thereof, of coral, sea cucumber, and sea urchin.

Pelagic fish means any or all species, or a part thereof, as follows:

Table 1 to § 622.431
Class or Family | Scientific name | English common name
Dolphinfishes—Coryphaenidae | Coryphaena hippurus | Dolphinfish.
| Coryphaena equiselis | Pompano dolphinfish.
Barracudas—Sphyraenidae | Sphyraena barracuda | Great barracuda.
Mackerels and tunas—Scombridae | Thunnus atlanticus | Blackfin tuna.
| Scomberomorus regalis | Cero.
| Scomberomorus cavalla | King mackerel.
| Euthynnus alletteratus | Little tunny.
| Acanthocybium solandri | Wahoo.
Tripletails—Lobotidae | Lobotes surinamensis | Tripletail.

Queen conch means the species Lobatus gigas, or a part thereof.

Rays means any or all species, or a part thereof, as follows:

Table 2 to § 622.431
Class or Family | Scientific name | English common name
Eagle and manta rays—Myliobatidae | Manta birostris | Giant manta.
| Aetobatus narinari | Spotted eagle ray.
Stingrays—Dasyatidae | Dasyatis americana | Southern stingray.

Reef fish means any or all species, or a part thereof, as follows:

Table 3 to § 622.431
Class or Family | Scientific name | English common name
Angelfishes—Pomacanthidae | Pomacanthus paru | French angelfish.
| Pomacanthus arcuatus | Gray angelfish.
| Holacanthus ciliaris | Queen angelfish.
Groupers—Serranidae | Mycteroperca bonaci | Black grouper.
| Cephalopholis fulva | Coney.
| Epinephelus itajara | Goliath grouper.
| Cephalopholis cruentata | Graysby.
| Hyporthodus mystacinus | Misty grouper.
| Epinephelus striatus | Nassau grouper.
| Epinephelus morio | Red grouper.
| Epinephelus guttatus | Red hind.
| Epinephelus adscensionis | Rock hind.
| Mycteroperca tigris | Tiger grouper.
| Hyporthodus flavolimbatus | Yellowedge grouper.
| Mycteroperca venenosa | Yellowfin grouper.
| Mycteroperca interstitialis | Yellowmouth grouper.
Grunts—Haemulidae | Haemulon plumierii | White grunt.
Jacks—Carangidae | Alectis ciliaris | African pompano.
| Caranx hippos | Crevalle jack.
| Elagatis bipinnulata | Rainbow runner.
Parrotfishes—Scaridae | Scarus coeruleus | Blue parrotfish.
| Scarus coelestinus | Midnight parrotfish.
| Scarus taeniopterus | Princess parrotfish.
| Scarus vetula | Queen parrotfish.
| Scarus guacamaia | Rainbow parrotfish.
| Sparisoma aurofrenatum | Redband parrotfish.
| Sparisoma chrysopterum | Redtail parrotfish.
| Sparisoma viride | Stoplight parrotfish.
| Scarus iseri | Striped parrotfish.
Snappers—Lutjanidae | Apsilus dentatus | Black snapper.
| Lutjanus buccanella | Blackfin snapper.
| Pristipomoides macrophthalmus | Cardinal snapper.
| Lutjanus cyanopterus | Cubera snapper.
| Lutjanus jocu | Dog snapper.
| Lutjanus synagris | Lane snapper.
| Lutjanus analis | Mutton snapper.
| Etelis oculatus | Queen snapper.
| Lutjanus apodus | Schoolmaster.
| Lutjanus vivanus | Silk snapper.
| Rhomboplites aurorubens | Vermilion snapper.
| Pristipomoides aquilonaris | Wenchman.
| Ocyurus chrysurus | Yellowtail snapper.
Surgeonfishes—Acanthuridae | Acanthurus coeruleus | Blue tang.
| Acanthurus chirurgus | Doctorfish.
| Acanthurus tractus | Ocean surgeonfish.
Triggerfishes—Balistidae | Balistes capriscus | Gray triggerfish.
| Canthidermis sufflamen | Ocean triggerfish.
| Balistes vetula | Queen triggerfish.
Wrasses—Labridae | Lachnolaimus maximus | Hogfish.
| Halichoeres radiatus | Puddingwife.
| Bodianus rufus | Spanish hogfish.

Sea cucumber means any or all species, or a part thereof, in Class Holothuroidea and occurring in the EEZ around Puerto Rico.

Sea urchin means any or all species of sea urchin, or a part thereof, in Class Echinoidea and occurring in the EEZ around Puerto Rico.

Spiny lobster trap means a trap and its component parts, including the lines and buoys, used for or capable of taking spiny lobster and meeting the spiny lobster trap construction specifications of this subpart.

§ 622.432 [Reserved]

§ 622.433 Vessel identification.

See § 622.6 for vessel identification requirements applicable to this subpart.

§ 622.434 Gear identification.

(a) Reef fish—(1) Fish traps and associated buoys. All fish traps used or possessed in the EEZ around Puerto Rico must display the official number specified for the vessel by Puerto Rico or the U.S. Virgin Islands. A fish trap that is fished individually, rather than tied together in a trap line, must have at least one buoy attached that floats on the surface. Fish traps that are tied together in a trap line must have at least one buoy that floats at the surface attached at each end of the trap line. All buoys must display the official number and color code assigned to the vessel by Puerto Rico or the U.S. Virgin Islands, whichever is applicable.

(2) Presumption of ownership of fish traps. A fish trap in the EEZ around Puerto Rico will be presumed to be the property of the most recently documented owner. This presumption will not apply with respect to such traps that are lost or sold if the owner reports the loss or sale within 15 days to the RA.

(3) Disposition of unmarked fish traps or buoys. An unmarked fish trap or buoy deployed in the EEZ around Puerto Rico is illegal and may be disposed of in any appropriate manner by the Assistant Administrator or an authorized officer.

(b) [Reserved]

(c) Spiny lobster—(1) Spiny lobster traps and associated buoys. All spiny lobster traps used or possessed in the EEZ around Puerto Rico must display the official number specified for the vessel by Puerto Rico or the U.S. Virgin Islands. A spiny lobster trap that is fished individually, rather than tied together in a trap line, must have at least one buoy attached that floats on the surface. Spiny lobster traps that are tied together in a trap line must have at least one buoy that floats at the surface attached at each end of the trap line. All buoys must display the official number and color code assigned to the vessel by Puerto Rico or the U.S. Virgin Islands, whichever is applicable.

(2) Presumption of ownership of spiny lobster traps. A spiny lobster trap in the EEZ around Puerto Rico will be presumed to be the property of the most recently documented owner. This presumption will not apply with respect to such traps that are lost or sold if the owner reports the loss or sale within 15 days to the RA.

(3) Disposition of unmarked spiny lobster traps or buoys. An unmarked spiny lobster trap or buoy deployed in the EEZ around Puerto Rico is illegal and may be disposed of in any appropriate manner by the Assistant Administrator or an authorized officer.

§ 622.435 Trap construction specifications and tending restrictions.

(a) Reef fish—(1) Construction specifications—(i) Minimum mesh size. A bare-wire fish trap used or possessed in the EEZ around Puerto Rico that has hexagonal mesh openings must have a minimum mesh size of 1.5 inches (3.8 cm) in the smallest dimension measured between centers of opposite strands. A bare-wire fish trap used or possessed in the EEZ around Puerto Rico that has other than hexagonal mesh openings or a fish trap of other than bare wire, such as coated wire or plastic, used or possessed in the EEZ around Puerto Rico, must have a minimum mesh size of 2 inches (5.1 cm) in the smallest dimension measured between centers of opposite strands.

(ii) Escape mechanisms. A fish trap used or possessed in the EEZ around Puerto Rico must have a panel located on one side of the trap, excluding the top, bottom, and side containing the trap entrance. The opening covered by the panel must measure not less than 8 by 8 inches (20.3 by 20.3 cm). The mesh size of the panel may not be smaller than the mesh size of the trap. The panel must be attached to the trap with untreated jute twine with a diameter not exceeding ⅛-inch (3.2 mm). An access door may serve as the panel, provided it is on an appropriate side, it is hinged only at its bottom, its only other fastening is untreated jute twine with a diameter not exceeding ⅛-inch (3.2 mm), and such fastening is at the top of the door so that the door will fall open when such twine degrades. Jute twine used to secure a panel may not be wrapped or overlapped.

(2) Tending restrictions. A fish trap in the EEZ around Puerto Rico may be pulled or tended only by a person (other than an authorized officer) aboard the fish trap owner's vessel, or aboard another vessel if such vessel has on board written consent of the trap owner, or if the trap owner is aboard and has documentation verifying his identification number and color code. An owner's written consent must specify the time period such consent is effective and the trap owner's gear identification number and color code.

(b) [Reserved]

(c) Spiny lobster—(1) Construction specifications—

(i) Escape mechanisms. A spiny lobster trap used or possessed in the EEZ around Puerto Rico must contain on any vertical side or on the top a panel no smaller in diameter than the throat or entrance of the trap. The panel must be made of or attached to the trap by one of the following degradable materials:

(A) Untreated fiber of biological origin with a diameter not exceeding ⅛-inch (3.2 mm). This includes, but is not limited to tyre palm, hemp, jute, cotton, wool, or silk.

(B) Ungalvanized or uncoated iron wire with a diameter not exceeding 1/16-inch (1.6 mm), that is, 16-gauge wire.

(ii) [Reserved]

(2) Tending restrictions. A spiny lobster trap in the EEZ around Puerto Rico may be pulled or tended only by a person (other than an authorized officer) aboard the trap owner's vessel, or aboard another vessel if such vessel has on board written consent of the trap owner, or if the trap owner is aboard and has documentation verifying his identification number and color code. An owner's written consent must specify the time period such consent is effective and the trap owner's gear identification number and color code.

§ 622.436 Anchoring restrictions.

The owner or operator of any fishing vessel, recreational or commercial, that fishes for or possesses reef fish in or from the EEZ around Puerto Rico must ensure that the vessel uses only an anchor retrieval system that recovers the anchor by its crown, thereby preventing the anchor from dragging along the bottom during recovery. For a grapnel hook, this could include an incorporated anchor rode reversal bar that runs parallel along the shank, which allows the rode to reverse and slip back toward the crown. For a fluke- or plow-type anchor, a trip line consisting of a line from the crown of the anchor to a surface buoy is required.

§ 622.437 Prohibited gear and methods.

Also see § 622.9 for additional prohibited gear and methods that apply more broadly to multiple fisheries or in some cases all fisheries.

(a) Reef fish—(1) Poisons. A poison, drug, or other chemical may not be used to fish for reef fish in the EEZ around Puerto Rico.

(2) Powerheads. A powerhead may not be used in the EEZ around Puerto Rico to harvest reef fish. The possession of a mutilated reef fish in or from the EEZ around Puerto Rico and a powerhead constitutes a rebuttable presumption of a violation of this paragraph (a)(2).

(3) Gillnets and trammel nets. A gillnet or trammel net may not be used in the EEZ around Puerto Rico to fish for reef fish. The possession of a reef fish in or from the EEZ around Puerto Rico and a gillnet or trammel net constitutes a rebuttable presumption of a violation of this paragraph (a)(3). A gillnet or trammel net used in the EEZ around Puerto Rico to fish for any other species must be tended at all times.

(b) [Reserved]

(c) Spiny lobster—(1) Spears and hooks. A spear, hook, or similar device may not be used in the EEZ around Puerto Rico to harvest a spiny lobster. The possession of a speared, pierced, or punctured spiny lobster in or from the EEZ around Puerto Rico constitutes a rebuttable presumption of a violation of this paragraph (c)(1).

(2) Gillnets and trammel nets. A gillnet or trammel net may not be used in the EEZ around Puerto Rico to fish for spiny lobster. The possession of a spiny lobster in or from the EEZ around Puerto Rico and a gillnet or trammel net constitutes a rebuttable presumption of a violation of this paragraph (c)(2). A gillnet or trammel net used in the EEZ around Puerto Rico to fish for any other species must be tended at all times.

§ 622.438 Prohibited species.

The harvest and possession restrictions of this section apply without regard to whether the species is harvested by a vessel operating under a commercial vessel permit. The operator of a vessel that fishes in the EEZ around Puerto Rico is responsible for the limit applicable to that vessel. Any of the following species caught in the EEZ around Puerto Rico must be released immediately with a minimum of harm.

(a) Reef fish. No person may fish for or possess the following reef fish species in or from the EEZ around Puerto Rico.

(1) Goliath grouper or Nassau grouper.

(2) Blue parrotfish, midnight parrotfish, or rainbow parrotfish.

(b)-(c) [Reserved]

(d) Coral, sea cucumber, and sea urchin. A coral, sea cucumber, or sea urchin may not be fished for or possessed in or from the EEZ around Puerto Rico. The taking of coral in the EEZ around Puerto Rico is not considered unlawful possession provided it is returned immediately to the sea in the general area of fishing.

(e) Queen conch. No person may fish for or possess queen conch in or from the EEZ around Puerto Rico.

(f) Rays. No person may fish for or possess giant manta, spotted eagle ray, or southern stingray in or from the EEZ around Puerto Rico.

§ 622.439 Area and seasonal closures.

(a) Closures applicable to specific areas—(1) Abrir La Sierra Bank red hind spawning aggregation area. Abrir La Sierra Bank is bounded by rhumb lines connecting, in order, the points listed in Table 1 to this paragraph (a)(1).

(i) From December 1 through the last day of February, each year, fishing is prohibited in Abrir La Sierra Bank.

(ii) Fishing with pots, traps, bottom longlines, gillnets or trammel nets is prohibited year-round in Abrir La Sierra Bank.

Table 1 to § 622.439(a)(1)—Abrir La Sierra Bank
Point | North lat. | West long.
A | 18°06.5′ | 67°26.9′
B | 18°06.5′ | 67°23.9′
C | 18°03.5′ | 67°23.9′
D | 18°03.5′ | 67°26.9′
A | 18°06.5′ | 67°26.9′

(2) Tourmaline Bank red hind spawning aggregation area. Tourmaline Bank is bounded by rhumb lines connecting, in order, the points listed in Table 2 to this paragraph (a)(2).

(i) From December 1 through the last day of February, each year, fishing is prohibited in those parts of Tourmaline Bank that are in the EEZ around Puerto Rico.

(ii) Fishing with pots, traps, bottom longlines, gillnets or trammel nets is prohibited year-round in those parts of Tourmaline Bank that are in the EEZ around Puerto Rico.

Table 2 to § 622.439(a)(2)—Tourmaline Bank
Point | North lat. | West long.
A | 18°11.2′ | 67°22.4′
B | 18°11.2′ | 67°19.2′
C | 18°08.2′ | 67°19.2′
D | 18°08.2′ | 67°22.4′
A | 18°11.2′ | 67°22.4′

(3) Bajo de Sico. Bajo de Sico is bounded by rhumb lines connecting, in order, the points listed in Table 3 to this paragraph (a)(3).

(i) From October 1 through March 31, each year, no person may fish for or possess any reef fish in or from those parts of Bajo de Sico that are in the EEZ around Puerto Rico. The prohibition on possession does not apply to such reef fish harvested and landed ashore prior to the closure.

(ii) Fishing with pots, traps, bottom longlines, gillnets or trammel nets is prohibited year-round in those parts of Bajo de Sico that are in the EEZ around Puerto Rico.

(iii) Anchoring by fishing vessels is prohibited year-round in those parts of Bajo de Sico that are in the EEZ around Puerto Rico.

Table 3 to § 622.439(a)(3)—Bajo de Sico
Point | North lat. | West long.
A | 18°15.7′ | 67°26.4′
B | 18°15.7′ | 67°23.2′
C | 18°12.7′ | 67°23.2′
D | 18°12.7′ | 67°26.4′
A | 18°15.7′ | 67°26.4′

(b) Seasonal closures applicable to specific species—(1) Black, red, tiger, yellowedge, and yellowfin grouper closure. From February 1 through April 30, each year, no person may fish for or possess black, red, tiger, yellowedge, or yellowfin grouper in or from the EEZ around Puerto Rico. The prohibition on possession does not apply to such grouper harvested and landed ashore prior to the closure.

(2) Red hind closure. From December 1 through the last day of February, each year, no person may fish for or possess red hind in or from the EEZ around Puerto Rico west of 67°10′ W. longitude. The prohibition on possession does not apply to red hind harvested and landed ashore prior to the closure.

(3) Black, blackfin, silk, and vermilion snapper closure. From October 1 through December 31, each year, no person may fish for or possess black, blackfin, silk, or vermilion snapper in or from the EEZ around Puerto Rico. The prohibition on possession does not apply to such snapper harvested and landed ashore prior to the closure.

(4) Lane and mutton snapper closure. From April 1 through June 30, each year, no person may fish for or possess lane or mutton snapper in or from the EEZ around Puerto Rico. The prohibition on possession does not apply to such snapper harvested and landed ashore prior to the closure.

§ 622.440 Annual catch limits (ACLs), annual catch targets (ACTs), and accountability measures (AMs).

(a) Reef fish. For those fishing commercially, the applicable ACL is the commercial ACL. For those fishing recreationally, the applicable ACL is the recreational ACL. When landings for one sector are not available for comparison to that sector's ACL, the ACL for the sector with available landings is the ACL for the stock or stock complex.

(1) Commercial ACLs. The commercial ACLs are as follows and given in round weight.

Table 1 to § 622.440(a)(1)
Family | Stock or stock complex and species composition | Commercial ACL
Angelfishes | Angelfish—French angelfish, gray angelfish, queen angelfish | 137 lb (62.1 kg).
Groupers | Grouper 3—coney,¹ graysby | 23,890 lb (10,836.3 kg).
| Grouper 4—black grouper, red grouper, tiger grouper, yellowfin grouper, yellowmouth grouper | 2,492 lb (1,130.3 kg)
| Grouper 5—misty grouper, yellowedge grouper | 15,327 lb (6,952.2 kg).
| Grouper 6—red hind,¹ rock hind | 121,729 lb (55,215.3 kg).
Grunts | Grunts—white grunt | 177,923 lb (80,704.5 kg).
Jacks | Jacks 1—crevalle jack | 46 lb (20.8 kg).
| Jacks 2—African pompano | 1,052 lb (477.1 kg).
| Jacks 3—rainbow runner | 913 lb (414.1 kg).
Parrotfishes | Parrotfish 2—princess parrotfish, queen parrotfish, redband parrotfish, redtail parrotfish, stoplight parrotfish, striped parrotfish | 147,774 lb (67,029.1 kg).
Snappers | Snapper 1—black snapper, blackfin snapper, silk snapper,¹ vermilion snapper, wenchman | 424,009 lb (192,327.2 kg).
| Snapper 2—cardinal snapper, queen snapper ¹ | 257,236 lb (116,680.2 kg).
| Snapper 3—lane snapper | 244,376 lb (110,847 kg).
| Snapper 4—dog snapper, mutton snapper,¹ schoolmaster | 116,434 lb (52,813.5 kg).
| Snapper 5—yellowtail snapper | 315,806 lb (143,247.1 kg).
| Snapper 6—cubera snapper | 119 lb (53.9 kg).
Surgeonfishes | Surgeonfish—blue tang, doctorfish, ocean surgeonfish | 147 lb (66.6 kg).
Triggerfishes | Triggerfish—gray triggerfish, ocean triggerfish, queen triggerfish ¹ | 83,099 lb (37,693 kg).
Wrasses | Wrasses 1—hogfish | 70,140 lb (31,814.9 kg).
| Wrasses 2—puddingwife, Spanish hogfish | 20,126 lb (9,129 kg).
¹ Indicator stock.

(2) Recreational ACLs. The recreational ACLs are as follows and given in round weight.

Table 2 to § 622.440(a)(2)
Family | Stock or stock complex and species composition | Recreational ACL
Angelfishes | Angelfish—French angelfish, gray angelfish, queen angelfish | 2,985 lb (1,353.9 kg).
Groupers | Grouper 3—coney,¹ graysby | 19,634 lb (8,905.8 kg).
| Grouper 4—black grouper, red grouper, tiger grouper, yellowfin grouper, yellowmouth grouper | 5,867 lb (2,661.2 kg).
| Grouper 5—misty grouper, yellowedge grouper | 4,225 lb (1,916.4 kg).
| Grouper 6—red hind,¹ rock hind | 34,493 lb (15,645.7 kg).
Grunts | Grunts—white grunt | 2,461 lb (1,116.2 kg).
Jacks | Jacks 1—crevalle jack | 41,894 lb (19,002.7 kg).
| Jacks 2—African pompano | 5,719 lb (2,594 kg).
| Jacks 3—rainbow runner | 8,091 lb (3,670 kg).
Parrotfishes | Parrotfish 2—princess parrotfish, queen parrotfish, redband parrotfish, redtail parrotfish, stoplight parrotfish, striped parrotfish | 17,052 lb (7,734.6 kg).
Snappers | Snapper 1—black snapper, blackfin snapper, silk snapper,¹ vermilion snapper, wenchman | 111,943 lb (50,776.4 kg).
| Snapper 2—cardinal snapper, queen snapper ¹ | 24,974 lb (11,328 kg).
| Snapper 3—lane snapper | 21,603 lb (9,798.9 kg).
| Snapper 4—dog snapper, mutton snapper,* schoolmaster | 76,625 lb (34,756.5 kg).
| Snapper 5—yellowtail snapper | 23,988 lb (10,880.7 kg).
| Snapper 6—cubera snapper | 6,448 lb (2,924.7 kg).
Surgeonfishes | Surgeonfish—blue tang, doctorfish, ocean surgeonfish | 860 lb (390 kg).
Triggerfishes | Triggerfish—gray triggerfish, ocean triggerfish, queen triggerfish ¹ | 7,453 lb (3,380.6 kg).
Wrasses | Wrasses 1—hogfish | 8,263 lb (3,748 kg).
| Wrasses 2—puddingwife, Spanish hogfish | 5,372 lb (2,436.6 kg).
¹ Indicator stock.

(3) Total ACLs. The total ACLs (combined commercial and recreational ACLs) are as follows and given in round weight.

Table 3 to § 622.440(a)(3)
Family | Stock or stock complex and species composition | Total ACL
Angelfishes | Angelfish—French angelfish, gray angelfish, queen angelfish | 3,122 lb (1,416.1 kg).
Groupers | Grouper 3—coney,¹ graysby | 43,524 lb (19,742.1 kg).
| Grouper 4—black grouper, red grouper, tiger grouper, yellowfin grouper, yellowmouth grouper | 8,359 lb (3,791.5 kg).
| Grouper 5—misty grouper, yellowedge grouper | 19,552 lb (8,868.6 kg).
| Grouper 6—red hind,¹ rock hind | 156,222 lb (70,861.1 kg).
Grunts | Grunts—white grunt | 180,384 lb (81,820.8 kg).
Jacks | Jacks 1—crevalle jack | 41,940 lb (19,023.6 kg).
| Jacks 2—African pompano | 6,771 lb (3,071.2 kg).
| Jacks 3—rainbow runner | 9,004 lb (4,084.1 kg).
Parrotfishes | Parrotfish 2—princess parrotfish, queen parrotfish, redband parrotfish, redtail parrotfish, stoplight parrotfish, striped parrotfish | 164,826 lb (74,763.8 kg).
Snappers | Snapper 1—black snapper, blackfin snapper, silk snapper,¹ vermilion snapper, wenchman | 535,952 lb (243,103.7 kg).
| Snapper 2—cardinal snapper, queen snapper ¹ | 282,210 lb (128,008.3 kg).
| Snapper 3—lane snapper | 265,979 lb (120,646 kg).
| Snapper 4—dog snapper, mutton snapper,¹ schoolmaster | 193,059 lb (87,570 kg).
| Snapper 5—yellowtail snapper | 339,794 lb (154,127.9 kg).
| Snapper 6—cubera snapper | 6,567 lb (2,978.7 kg).
Surgeonfishes | Surgeonfish—blue tang, doctorfish, ocean surgeonfish | 1,007 lb (456.7 kg).
Triggerfishes | Triggerfish—gray triggerfish, ocean triggerfish, queen triggerfish ¹ | 90,552 lb (41,073.6 kg).
Wrasses | Wrasses 1—hogfish | 78,403 lb (35,563 kg).
| Wrasses 2—puddingwife, Spanish hogfish | 25,498 lb (11,565.6 kg).
¹ Indicator stock.

(4) General applicability and monitoring of AMs. At or near the beginning the fishing year, landings for each stock, stock complex, or indicator stock will be evaluated relative to the ACL based on a moving multi-year average of landings, as described in the FMP. When landings for one sector are not available for comparison to that sector's ACL, the ACL for the sector with available landings is the ACL for the stock or stock complex and the AM specified in paragraph (a)(7) of this section applies. Any fishing season reduction required under paragraph (a) of this section will be applied starting from September 30 and moving earlier toward the beginning of the fishing year. If the length of the required fishing season reduction exceeds the time period of January 1 through September 30, any additional fishing season reduction will be applied starting from October 1 and moving later toward the end of the fishing year.

(5) Commercial AMs. If NMFS estimates that commercial landings for a stock, stock complex, or indicator stock have exceeded the applicable commercial ACL specified in paragraph (a)(1) of this section for the stock or stock complex, and the combined commercial and recreational landings for the stock, stock complex, or indicator stock have exceeded the applicable combined commercial and recreational sector ACL (total ACL) specified in paragraph (a)(3) of this section for that stock or stock complex, the Assistant Administrator for NOAA Fisheries (AA) will file a notification with the Office of the Federal Register to reduce the length of the commercial fishing season for the stock or stock complex within that fishing year by the amount necessary to prevent commercial landings from exceeding the commercial ACL for the stock or stock complex, unless NMFS determines that a fishing season reduction is not necessary based on the best scientific information available. If NMFS determines that either the commercial ACL or total ACL for the stock or stock complex was exceeded because data collection or monitoring improved rather than because landings increased, NMFS will not reduce the length of the commercial fishing season for the stock or stock complex.

(6) Recreational AMs. If NMFS estimates that recreational landings for a stock, stock complex, or indicator stock have exceeded the applicable recreational ACL specified in paragraph (a)(2) of this section for the stock or stock complex, and the combined commercial and recreational landings for the stock, stock complex, or indicator stock have exceeded the applicable combined commercial and recreational ACL (total ACL) specified in paragraph (a)(3) of this section for that stock or stock complex, the AA will file a notification with the Office of the Federal Register to reduce the length of the recreational fishing season for the stock or stock complex within that fishing year by the amount necessary to prevent recreational landings from exceeding the recreational ACL for the stock or stock complex, unless NMFS determines that a fishing season reduction is not necessary based on the best scientific information available. If NMFS determines that either the recreational ACL or total ACL for the stock or stock complex was exceeded because data collection or monitoring improved rather than because landings increased, NMFS will not reduce the length of the recreational fishing season for the stock or stock complex.

(7) AM when only one sector's landings are available. When landings for one sector are not available for comparison to that sector's ACL, the ACL for the sector with available landings in paragraph (a) of this section is the applicable ACL for the stock or stock complex. If NMFS estimates that available landings for the stock, stock complex, or indicator stock, have exceeded the applicable ACL for the stock or stock complex, the AA will file a notification with the Office of the Federal Register to reduce the length of the fishing season for the stock or stock complex within that fishing year by the amount necessary to prevent landings from exceeding the ACL, unless NMFS determines that a fishing season reduction is not necessary based on the best scientific information available. If NMFS determines that the ACL was exceeded because data collection or monitoring improved rather than because landings increased, NMFS will not reduce the length of the fishing season for the stock or stock complex.

(b) Pelagic fish. The ACLs and ACTs are given in round weight. Indicator stocks are noted in the relevant tables to paragraph (a) of this section. For those fishing commercially, the applicable ACL is the commercial ACL and the applicable ACT is the commercial ACT. For those fishing recreationally, the applicable ACL is the recreational ACL and the applicable ACT is the recreational ACT. When landings for one sector are not available for comparison to that sector's ACL and ACT, the ACL and ACT for the sector with available landings are the ACL and ACT for the stock or stock complex.

(1) Barracuda—great barracuda. (i) Commercial ACL—495 lb (224.5 kg).

(ii) Commercial ACT—445 lb (201.8 kg).

(iii) Recreational ACL—167,693 lb (76,064.2 kg).

(iv) Recreational ACT—150,924 lb (68,457.9 kg).

(2) Dolphinfishes—dolphinfish, pompano dolphinfish. (i) Commercial ACL—232,173 lb (105,311.9 kg).

(ii) Commercial ACT—208,956 lb (94,780.8 kg).

(iii) Recreational ACL—1,513,873 lb (686,681.2 kg).

(iv) Recreational ACT—1,362,486 lb (618,013.2 kg).

(3) Mackerels—cero, king mackerel. (i) Commercial ACL—232,422 lb (105,424.8 kg).

(ii) Commercial ACT—209,180 lb (94,882.4 kg).

(iii) Recreational ACL—129,180 lb (58,595 kg).

(iv) Recreational ACT—116,262 lb (52,735.5 kg).

(4) Tripletail. (i) Commercial ACL—270 lb (122.4 kg).

(ii) Commercial ACT—243 lb (110.2 kg).

(iii) Recreational ACL—39,005 lb (17,692.3 kg).

(iv) Recreational ACT—35,105 lb (15,923.3 kg).

(5) Tunas—blackfin tuna, little tunny. (i) Commercial ACL—82,779 lb (37,547.9 kg).

(ii) Commercial ACT—74,501 lb (33,793 kg).

(iii) Recreational ACL—34,485 lb (15,642.1 kg).

(iv) Recreational ACT—31,037 lb (14,078.1 kg).

(6) Wahoo. (i) Commercial ACL—25,911 lb (11,753 kg).

(ii) Commercial ACT—23,320 lb (10,577.7 kg).

(iii) Recreational ACL—210,737 lb (95,588.6 kg).

(iv) Recreational ACT—189,663 lb (86,029.6 kg).

(7) Pelagic fish AM application. At or near the beginning the fishing year, landings for each stock, stock complex, or indicator stock will be evaluated relative to the applicable ACT for the stock or stock complex based on a moving multi-year average of landings, as described in the FMP. If NMFS estimates that landings have exceeded the applicable ACT specified in paragraph (b) of this section for a stock or stock complex, NMFS in consultation with the Caribbean Fishery Management Council will determine appropriate corrective action.

(c) Spiny lobster. (1) ACL—527,232 lb (239,148.4 kg), round weight.

(2) At or near the beginning the fishing year, landings will be evaluated relative to the ACL based on a moving multi-year average of landings, as described in the FMP. If NMFS estimates that landings have exceeded the ACL specified in paragraph (c)(1) of this section, the AA will file a notification with the Office of the Federal Register to reduce the length of the fishing season for spiny lobster within that fishing year by the amount necessary to prevent landings from exceeding the ACL, unless NMFS determines that a fishing season reduction is not necessary based on the best scientific information available. If NMFS determines the ACL was exceeded because data collection or monitoring improved rather than because landings increased, NMFS will not reduce the length of the fishing season. Any fishing season reduction required under this paragraph (c)(2) will be applied starting from September 30 and moving earlier toward the beginning of the fishing year. If the length of the required fishing season reduction exceeds the time period of January 1 through September 30, any additional fishing season reduction will be applied starting from October 1 and moving later toward the end of the fishing year.

(d)-(e) [Reserved]

(f) Closure provisions for reef fish and spiny lobster—(1) Restrictions applicable during a commercial closure for a reef fish stock or stock complex in the EEZ around Puerto Rico. During the closure period announced in the notification filed pursuant to paragraph (a)(5) of this section, the commercial sector included in the notification is closed, and such stock or stock complex in or from the EEZ around Puerto Rico may not be purchased or sold. Harvest or possession of such reef fish stock or stock complex in or from the EEZ around Puerto Rico is limited to the recreational bag and possession limits. If the recreational sector for such stock or stock complex also is closed, such stock or stock complex in or from the EEZ around Puerto Rico may not be harvested, possessed, purchased, or sold, and the bag and possession limits are zero.

(2) Restrictions applicable during a recreational closure for a reef fish stock or stock complex in the EEZ around Puerto Rico. During the closure period announced in the notification filed pursuant to paragraph (a)(6) of this section, the recreational sector for the reef fish stock or stock complex included in the notification is closed, and the bag and possession limits for such stock or stock complex in or from the EEZ around Puerto Rico are zero. If the commercial sector for such stock or stock complex also is closed, such stock or stock complex in or from the EEZ around Puerto Rico may not be harvested, possessed, purchased, or sold, and the bag and possession limits are zero.

(3) Restrictions applicable during a closure for a reef fish stock or stock complex in the EEZ around Puerto Rico when only one sector's landings are available. During the closure period announced in the notification filed pursuant to paragraph (a)(7) of this section, the fishing season for the reef fish stock or stock complex included in the notification is closed, and such stock or stock complex in or from the EEZ around Puerto Rico may not be harvested, possessed, purchased, or sold, and the bag and possession limits for such stock or stock complex are zero.

(4) Restrictions applicable during a spiny lobster closure in the EEZ around Puerto Rico. During the closure period announced in the notification filed pursuant to paragraph (c)(2) of this section, the fishing season for spiny lobster is closed, and spiny lobster in or from the EEZ around Puerto Rico may not be harvested, possessed, purchased, or sold, and the bag and possession limits are zero.

§ 622.441 Size limits.

All size limits in this section are minimum size limits unless specified otherwise. A fish not in compliance with its size limit in or from the EEZ around Puerto Rico may not be possessed, sold, or purchased, and must be released immediately with a minimum of harm. The operator of a vessel that fishes in the EEZ around Puerto Rico is responsible for ensuring that all species on board are in compliance with the size limits specified in this section. See § 622.10 regarding requirements for landing fish intact. See § 622.445(c)(2) regarding requirements for landing spiny lobster intact.

(a) Reef fish. (1) Yellowtail snapper—12 inches (30.5 cm), TL.

(2) [Reserved]

(b) [Reserved]

(c) Spiny lobster. 3.5 inches (8.9 cm), carapace length.

§ 622.442 [Reserved]

§ 622.443 Restrictions on sale or purchase.

(a) Reef fish. A live red hind or live mutton snapper in or from the EEZ around Puerto Rico may not be sold or purchased and used in the marine aquarium trade.

(b) [Reserved]

(c) Coral. (1) No person may sell or purchase a coral harvested in the EEZ around Puerto Rico.

(2) A coral that is sold in Puerto Rico will be presumed to have been harvested in the EEZ around Puerto Rico, unless it is accompanied by documentation showing that it was harvested elsewhere. Such documentation must contain:

(i) The information specified in subpart K of part 300 of this title for marking containers or packages of fish or wildlife that are imported, exported, or transported in interstate commerce.

(ii) The name and home port of the vessel, or the name and address of the individual harvesting the coral.

(iii) The port and date of landing the coral.

(iv) A statement signed by the person selling the coral attesting that, to the best of his or her knowledge, information, and belief, such coral was harvested from other than in the EEZ around Puerto Rico or the waters of Puerto Rico or the U.S. Virgin Islands.

§ 622.444 Bag and possession limits.

Section 622.11(a) provides the general applicability for bag and possession limits. However, § 622.11(a) notwithstanding, the bag limits of this section do not apply to a person who has a valid commercial fishing license issued by Puerto Rico or the U.S. Virgin Islands.

(a) Reef fish. (1) Groupers, parrotfishes, and snappers combined—5 per person per day or, if 3 or more persons are aboard, 15 per vessel per day; but not to exceed 2 parrotfish per person per day or 6 parrotfish per vessel per day.

(2) Angelfishes, grunts, jacks, surgeonfishes, triggerfishes, and wrasses combined—5 per person per day or, if 3 or more persons are aboard, 15 per vessel per day, but not to exceed 1 surgeonfish per person per day or 4 surgeonfish per vessel per day.

(b) [Reserved]

(c) Spiny lobster. 3 per person per day, not to exceed 10 per vessel per day, whichever is less.

§ 622.445 Other harvest restrictions.

(a)-(b) [Reserved]

(c) Spiny lobster—(1) Prohibition on harvest of egg-bearing spiny lobster. Egg-bearing spiny lobster in the EEZ around Puerto Rico must be returned to the water unharmed. An egg-bearing spiny lobster may be retained in a spiny lobster trap, provided the trap is returned immediately to the water. An egg-bearing spiny lobster may not be stripped, scraped, shaved, clipped, or in any other manner molested, in order to remove the eggs.

(2) Landing spiny lobster intact. (i) A spiny lobster in or from the EEZ around Puerto Rico must be maintained with head and carapace intact through offloading ashore.

(ii) The operator of a vessel that fishes in the EEZ around Puerto Rico is responsible for ensuring that spiny lobster on that vessel are maintained intact through offloading ashore, as specified in this section.

§ 622.446 Spiny lobster import prohibitions.

(a) Minimum size limits for imported spiny lobster. Multiple minimum size limits apply to importation of spiny lobster into the United States—one that applies any place subject to the jurisdiction of the United States other than Puerto Rico or the U.S. Virgin Islands, and more restrictive minimum size limits that apply to Puerto Rico, St. Croix, and St. Thomas and St. John, respectively.

(1) No person may import a spiny lobster with less than a 6-ounce (170-gram) tail weight into Puerto Rico. For the purposes of paragraph (a) of this section, a 6-ounce (170-gram) tail weight is defined as a tail that weighs 5.9-6.4 ounces (167-181 grams). If the documentation accompanying an imported spiny lobster, including but not limited to product packaging, customs entry forms, bills of lading, brokerage forms, or commercial invoices, indicates that the product does not satisfy the minimum tail-weight, the person importing such spiny lobster has the burden to prove that such spiny lobster does satisfy the minimum tail-weight requirement or that such spiny lobster has a tail length of 6.2 inches (15.75 cm) or greater or that such spiny lobster has or had a carapace length of 3.5 inches (8.89 cm) or greater. If the imported product itself does not satisfy the minimum tail-weight requirement, the person importing such spiny lobster has the burden to prove that such spiny lobster has a tail length of 6.2 inches (15.75 cm) or greater or that such spiny lobster has or had a carapace length of 3.5 inches (8.89 cm) or greater. If the burden is satisfied, such spiny lobster will be considered to be in compliance with the minimum 6-ounce (170-gram) tail-weight requirement.

(2) See § 622.409 regarding the minimum size limit that applies to spiny lobster imported into any place subject to the jurisdiction of the United States other than Puerto Rico or the U.S. Virgin Islands.

(3) See subparts T and U of this part for the minimum size limits that apply to spiny lobster imported into St. Croix and St. Thomas and St. John, respectively.

(b) Additional spiny lobster import prohibitions—(1) Prohibition related to tail meat. No person may import into any place subject to the jurisdiction of the United States spiny lobster tail meat that is not in whole tail form with the exoskeleton attached.

(2) Prohibitions related to egg-bearing spiny lobster. No person may import into any place subject to the jurisdiction of the United States spiny lobster with eggs attached or spiny lobster from which eggs or pleopods (swimmerets) have been removed or stripped. Pleopods are the first five pairs of abdominal appendages.

§ 622.447 Adjustment of management measures.

In accordance with the framework procedure of the Fishery Management Plan for the EEZ around Puerto Rico, the RA may establish or modify the following items.

(a) Standard open framework procedures. Re-specify maximum sustainable yield (MSY), optimum yield (OY), overfishing limit (OFL), maximum fishing mortality threshold (MFMT), minimum stock size threshold (MSST), acceptable biological catch (ABC), ACL, ACT, sustainable yield level, and other related management reference points and status determination criteria; establish or revise rebuilding plans; revise AMs; modify reporting or monitoring requirements, and time or area closures and closure procedures.

(b) Abbreviated open framework procedures. Gear or vessel marking requirements, maintaining fish in a specific condition, size limits, commercial trip limits, recreational bag and possession limits, changes to the length of an established closed season of no more than 1 day, and gear modifications to address conservation issues including responding to interactions with species listed under the Endangered Species Act or protected under the Marine Mammal Protection Act.

Subpart T—FMP for the EEZ Around St. Croix

§ 622.470 Management area.

The management area is the EEZ around St. Croix bounded by rhumb lines connecting the following points and geographic instructions in order:

Table 1 to § 622.470
Point | North lat. | West long.
G | 18°03′03″ | 64° 38′ 03″
From Point G proceed along the international and EEZ boundary easterly, then southerly, then southwesterly to Point F |  |
F | 16° 02′53.5812″ | 65°20′00.1716″
E | 17°30′00.000″ | 65°20′00.1716″
D | 18°01′16.9636″ | 64°57′38.817″
G | 18°03′03″ | 64°38′03″

§ 622.471 Definitions.

In addition to the definitions and acronyms in § 622.2, the terms and acronyms used in this subpart have the following meanings:

Coral means any or all species, or a part thereof, of coral occurring in the EEZ around St. Croix, including any or all species, or a part thereof, of soft corals and gorgonians in Order Alcyonacea; sea pens and sea pansies in Order Pennatulacea; black corals in Order Antipatharia; stony corals in Order Scleractinia; and, within Order Anthoatheacata, fire corals in Family Milleporidae and lace corals in Family Stylasteridae.

Coral reef resource means any or all species, or a part thereof, of coral, sea cucumber, and sea urchin.

Pelagic fish means any or all species, or a part thereof, as follows:

Table 1 to § 622.471
Class or Family | Scientific name | English common name
Dolphinfishes—Coryphaenidae | Coryphaena hippurus | Dolphinfish.
Mackerels and tunas—Scombridae | Acanthocybium solandri | Wahoo.

Queen conch means the species Lobatus gigas, or a part thereof.

Reef fish means any or all species, or a part thereof, as follows:

Table 2 to § 622.471
Class or family | Scientific name | English common name
Angelfishes—Pomacanthidae | Pomacanthus paru | French angelfish.
| Pomacanthus arcuatus | Gray angelfish.
| Holacanthus ciliaris | Queen angelfish.
Groupers—Serranidae | Mycteroperca bonaci | Black grouper.
| Cephalopholis fulva | Coney.
| Epinephelus itajara | Goliath grouper.
| Cephalopholis cruentata | Graysby.
| Hyporthodus mystacinus | Misty grouper.
| Epinephelus striatus | Nassau grouper.
| Epinephelus morio | Red grouper.
| Epinephelus guttatus | Red hind.
| Epinephelus adscensionis | Rock hind.
| Mycteroperca tigris | Tiger grouper.
| Mycteroperca venenosa | Yellowfin grouper.
Grunts—Haemulidae | Haemulon sciurus | Bluestriped grunt.
| Haemulon plumierii | White grunt.
Parrotfishes—Scaridae | Scarus coeruleus | Blue parrotfish.
| Scarus coelestinus | Midnight parrotfish.
| Scarus taeniopterus | Princess parrotfish.
| Scarus vetula | Queen parrotfish.
| Scarus guacamaia | Rainbow parrotfish.
| Sparisoma aurofrenatum | Redband parrotfish.
| Sparisoma rubripinne | Redfin parrotfish.
| Sparisoma chrysopterum | Redtail parrotfish.
| Sparisoma viride | Stoplight parrotfish.
| Scarus iseri | Striped parrotfish.
Snappers—Lutjanidae | Apsilus dentatus | Black snapper.
| Lutjanus buccanella | Blackfin snapper.
| Lutjanus griseus | Gray snapper.
| Lutjanus synagris | Lane snapper.
| Lutjanus analis | Mutton snapper.
| Etelis oculatus | Queen snapper.
| Lutjanus apodus | Schoolmaster.
| Lutjanus vivanus | Silk snapper.
| Rhomboplites aurorubens | Vermilion snapper.
| Ocyurus chrysurus | Yellowtail snapper.
Squirrelfishes—Holocentridae | Holocentrus rufus | Longspine squirrelfish.
Surgeonfishes—Acanthuridae | Acanthurus coeruleus | Blue tang.
| Acanthurus chirurgus | Doctorfish.
| Acanthurus tractus | Ocean surgeonfish.
Triggerfishes—Balistidae | Balistes vetula | Queen triggerfish.

Sea cucumber means any or all species, or a part thereof, in Class Holothuroidea and occurring in the EEZ of St. Croix.

Sea urchin means any or all species of sea urchin, or a part thereof, in Class Echinoidea and occurring in the EEZ of St. Croix.

Spiny lobster trap means a trap and its component parts, including the lines and buoys, used for or capable of taking spiny lobster and meeting the spiny lobster trap construction specifications of this subpart.

§ 622.472 [Reserved]

§ 622.473 Vessel identification.

See § 622.6 for vessel identification requirements applicable to this subpart.

§ 622.474 Gear identification.

(a) Reef fish—(1) Fish traps and associated buoys. All fish traps used or possessed in the EEZ around St. Croix must display the official number specified for the vessel by Puerto Rico or the U.S. Virgin Islands. A fish trap that is fished individually, rather than tied together in a trap line, must have at least one buoy attached that floats on the surface. Fish traps that are tied together in a trap line must have at least one buoy that floats at the surface attached at each end of the trap line. All buoys must display the official number and color code assigned to the vessel by Puerto Rico or the U.S. Virgin Islands, whichever is applicable.

(2) Presumption of ownership of fish traps. A fish trap in the EEZ around St. Croix will be presumed to be the property of the most recently documented owner. This presumption will not apply with respect to such traps that are lost or sold if the owner reports the loss or sale within 15 days to the RA.

(3) Disposition of unmarked fish traps or buoys. An unmarked fish trap or buoy deployed in the EEZ around St. Croix is illegal and may be disposed of in any appropriate manner by the Assistant Administrator or an authorized officer.

(b) [Reserved]

(c) Spiny lobster—(1) Spiny lobster traps and associated buoys. All spiny lobster traps used or possessed in the EEZ around St. Croix must display the official number specified for the vessel by Puerto Rico or the U.S. Virgin Islands. A spiny lobster trap that is fished individually, rather than tied together in a trap line, must have at least one buoy attached that floats on the surface. Spiny lobster traps that are tied together in a trap line must have at least one buoy that floats at the surface attached at each end of the trap line. All buoys must display the official number and color code assigned to the vessel by Puerto Rico or the U.S. Virgin Islands, whichever is applicable.

(2) Presumption of ownership of spiny lobster traps. A spiny lobster trap in the EEZ around St. Croix will be presumed to be the property of the most recently documented owner. This presumption will not apply with respect to such traps that are lost or sold if the owner reports the loss or sale within 15 days to the RA.

(3) Disposition of unmarked spiny lobster traps or buoys. An unmarked spiny lobster trap or buoy deployed in the EEZ around St. Croix is illegal and may be disposed of in any appropriate manner by the Assistant Administrator or an authorized officer.

§ 622.475 Trap construction specifications and tending restrictions.

(a) Reef fish—(1) Construction specifications—(i) Minimum mesh size. A bare-wire fish trap used or possessed in the EEZ around St. Croix that has hexagonal mesh openings must have a minimum mesh size of 1.5 inches (3.8 cm) in the smallest dimension measured between centers of opposite strands. A bare-wire fish trap used or possessed in the EEZ around St. Croix that has other than hexagonal mesh openings or a fish trap of other than bare wire, such as coated wire or plastic, used or possessed in the EEZ around St. Croix, must have a minimum mesh size of 2 inches (5.1 cm) in the smallest dimension measured between centers of opposite strands.

(ii) Escape mechanisms. A fish trap used or possessed in the EEZ around St. Croix must have a panel located on one side of the trap, excluding the top, bottom, and side containing the trap entrance. The opening covered by the panel must measure not less than 8 by 8 inches (20.3 by 20.3 cm). The mesh size of the panel may not be smaller than the mesh size of the trap. The panel must be attached to the trap with untreated jute twine with a diameter not exceeding ⅛-inch (3.2 mm). An access door may serve as the panel, provided it is on an appropriate side, it is hinged only at its bottom, its only other fastening is untreated jute twine with a diameter not exceeding ⅛-inch (3.2 mm), and such fastening is at the top of the door so that the door will fall open when such twine degrades. Jute twine used to secure a panel may not be wrapped or overlapped.

(2) Tending restrictions. A fish trap in the EEZ around St. Croix may be pulled or tended only by a person (other than an authorized officer) aboard the fish trap owner's vessel, or aboard another vessel if such vessel has on board written consent of the trap owner, or if the trap owner is aboard and has documentation verifying his identification number and color code. An owner's written consent must specify the time period such consent is effective and the trap owner's gear identification number and color code.

(b) [Reserved]

(c) Spiny lobster—(1) Construction specifications—(i) Escape mechanisms. A spiny lobster trap used or possessed in the EEZ around St. Croix must contain on any vertical side or on the top a panel no smaller in diameter than the throat or entrance of the trap. The panel must be made of or attached to the trap by one of the following degradable materials:

(A) Untreated fiber of biological origin with a diameter not exceeding ⅛-inch (3.2 mm). This includes, but is not limited to tyre palm, hemp, jute, cotton, wool, or silk.

(B) Ungalvanized or uncoated iron wire with a diameter not exceeding 1/16-inch (1.6 mm), that is, 16-gauge wire.

(ii) [Reserved]

(2) Tending restrictions. A spiny lobster trap in the EEZ around St. Croix may be pulled or tended only by a person (other than an authorized officer) aboard the trap owner's vessel, or aboard another vessel if such vessel has on board written consent of the trap owner, or if the trap owner is aboard and has documentation verifying his identification number and color code. An owner's written consent must specify the time period such consent is effective and the trap owner's gear identification number and color code.

§ 622.476 Anchoring restrictions.

The owner or operator of any fishing vessel, recreational or commercial, that fishes for or possesses reef fish in or from the EEZ around St. Croix must ensure that the vessel uses only an anchor retrieval system that recovers the anchor by its crown, thereby preventing the anchor from dragging along the bottom during recovery. For a grapnel hook, this could include an incorporated anchor rode reversal bar that runs parallel along the shank, which allows the rode to reverse and slip back toward the crown. For a fluke- or plow-type anchor, a trip line consisting of a line from the crown of the anchor to a surface buoy is required.

§ 622.477 Prohibited gear and methods.

Also see § 622.9 for additional prohibited gear and methods that apply more broadly to multiple fisheries or in some cases all fisheries.

(a) Reef fish—(1) Poisons. A poison, drug, or other chemical may not be used to fish for reef fish in the EEZ around St. Croix.

(2) Powerheads. A powerhead may not be used in the EEZ around St. Croix to harvest reef fish. The possession of a mutilated reef fish in or from the EEZ around St. Croix and a powerhead constitutes a rebuttable presumption of a violation of this paragraph (a)(2).

(3) Gillnets and trammel nets. A gillnet or trammel net may not be used in the EEZ around St. Croix to fish for reef fish. The possession of a reef fish in or from the EEZ around St. Croix and a gillnet or trammel net constitutes a rebuttable presumption of a violation of this paragraph (a)(3). A gillnet or trammel net used in the EEZ around St. Croix to fish for any other species must be tended at all times.

(b) [Reserved]

(c) Spiny lobster—(1) Spears and hooks. A spear, hook, or similar device may not be used in the EEZ around St. Croix to harvest a spiny lobster. The possession of a speared, pierced, or punctured spiny lobster in or from the EEZ around St. Croix constitutes a rebuttable presumption of a violation of this paragraph (c)(1).

(2) Gillnets and trammel nets. A gillnet or trammel net may not be used in the EEZ around St. Croix to fish for spiny lobster. The possession of a spiny lobster in or from the EEZ around St. Croix and a gillnet or trammel net constitutes a rebuttable presumption of a violation of this paragraph (c)(2). A gillnet or trammel net used in the EEZ around St. Croix to fish for any other species must be tended at all times.

(d) [Reserved]

(e) Queen conch. In the EEZ around St. Croix, no person may harvest queen conch by diving while using a device that provides a continuous air supply from the surface.

§ 622.478 Prohibited species.

The harvest and possession restrictions of this section apply without regard to whether the species is harvested by a vessel operating under a commercial vessel permit. The operator of a vessel that fishes in the EEZ around St. Croix is responsible for the limit applicable to that vessel. Any of the following species caught in the EEZ around St. Croix must be released immediately with a minimum of harm.

(a) Reef fish. No person may fish for or possess the following reef fish species in or from the EEZ around St. Croix.

(1) Goliath grouper or Nassau grouper.

(2) Blue parrotfish, midnight parrotfish, or rainbow parrotfish.

(b)—(c) [Reserved]

(d) Coral, sea cucumber, and sea urchin. A coral, sea cucumber, or sea urchin may not be fished for or possessed in or from the EEZ around St. Croix. The taking of coral in the EEZ around St. Croix is not considered unlawful possession provided it is returned immediately to the sea in the general area of fishing.

(e) [Reserved]

§ 622.479 Area and seasonal closures.

(a) Closures applicable to specific areas—(1) Mutton snapper spawning aggregation area. The mutton snapper spawning aggregation area is bounded by rhumb lines connecting, in order, the points listed in Table 1 to this paragraph (a).

(i) From March 1 through June 30, each year, fishing is prohibited in those parts of the mutton snapper spawning aggregation area that are in the EEZ around St. Croix.

(ii) Fishing with pots, traps, bottom longlines, gillnets or trammel nets is prohibited year-round in those parts of the mutton snapper spawning aggregation area that are in the EEZ around St. Croix.

Table 1 to § 622.479(a)—Mutton Snapper Spawning Aggregation Area
Point | North lat. | West long.
A | 17°37.8′ | 64°53.0′
B | 17°39.0′ | 64°53.0′
C | 17°39.0′ | 64°50.5′
D | 17°38.1′ | 64°50.5′
E | 17°37.8′ | 64°52.5′
A | 17°37.8′ | 64°53.0′

(2) Red hind spawning aggregation area east of St. Croix. The red hind spawning aggregation area east of St. Croix is bounded by rhumb lines connecting, in order, the points listed in Table 2 to this paragraph (a)(2).

(i) From December 1 through the last day of February, each year, fishing is prohibited in the red hind spawning aggregation area east of St. Croix.

(ii) Fishing with pots, traps, bottom longlines, gillnets or trammel nets is prohibited year-round in the red hind spawning aggregation area east of St. Croix.

Table 2 to § 622.479(a)(2)—Red Hind Spawning Aggregation Area East of St. Croix
Point | North lat. | West long.
A | 17°50.2′ | 64°27.9′
B | 17°50.1′ | 64°26.1′
C | 17°49.2′ | 64°25.8′
D | 17°48.6′ | 64°25.8′
E | 17°48.1′ | 64°26.1′
F | 17°47.5′ | 64°26.9′
A | 17°50.2′ | 64°27.9′

(b) Seasonal closures applicable to specific species—(1) Black, red, tiger, and yellowfin grouper closure. From February 1 through April 30, each year, no person may fish for or possess black, red, tiger, or yellowfin grouper in or from the EEZ around St. Croix. The prohibition on possession does not apply to such grouper harvested and landed ashore prior to the closure.

(2) Black, blackfin, silk, and vermilion snapper closure. From October 1 through December 31, each year, no person may fish for or possess black, blackfin, silk, or vermilion snapper in or from the EEZ around St. Croix. The prohibition on possession does not apply to such snapper harvested and landed ashore prior to the closure.

(3) Lane and mutton snapper closure. From April 1 through June 30, each year, no person may fish for or possess lane or mutton snapper in or from the EEZ around St. Croix. The prohibition on possession does not apply to such snapper harvested and landed ashore prior to the closure.

(4) Queen conch. No person may fish for or possess a queen conch in or from the EEZ around St. Croix, except from November 1 through May 31 in the area east of 64°34′ W longitude, which includes Lang Bank.

§ 622.480 Annual catch limits (ACLs), annual catch targets (ACTs), and accountability measures (AMs).

(a) Reef fish. (1) The ACLs are as follows and given in round weight.

Table 1 to § 622.480(a)(1)
Family | Stock or stock complex and species composition | ACL
Angelfishes | Angelfish—French angelfish, gray angelfish, queen angelfish | 6,412 lb (2,908.4 kg).
Groupers | Grouper 3—coney,¹ graysby | 13,529 lb (6,136.6 kg).
| Grouper 4—red hind,¹ rock hind | 11,849 lb (5,374.6 kg).
| Grouper 5—black grouper, red grouper, tiger grouper, yellowfin grouper | 701 lb (317.9 kg).
| Grouper 6—misty grouper | 77 lb (34.9 kg).
Grunts | Grunts—bluestriped grunt, white grunt | 27,169 lb (12,323.6 kg).
Parrotfishes | Parrotfish 2—princess parrotfish, queen parrotfish, redband parrotfish, redfin parrotfish, redtail parrotfish,¹ stoplight parrotfish,¹ striped parrotfish | 72,365 lb (32,824.2 kg).
Snappers | Snapper 1—black snapper, blackfin snapper,¹ silk snapper,¹ vermilion snapper | 61,455 lb (27,875.5 kg).
| Snapper 2—queen snapper | 7,911 lb (3,588.3 kg).
| Snapper 3—gray snapper, lane snapper | 14,156 lb (6,421 kg).
| Snapper 4—mutton snapper | 8,513 lb (3,861.4 kg).
| Snapper 5—schoolmaster | 22,879 lb (10,377.7 kg).
| Snapper 6—yellowtail snapper | 15,670 lb (7,107.7 kg).
Squirrelfishes | Squirrelfish—longspine squirrelfish | 3,514 (1,593.9 kg).
Surgeonfishes | Surgeonfish—blue tang, doctorfish, ocean surgeonfish | 39,061 lb (17,717.7 kg).
Triggerfishes | Triggerfish—queen triggerfish | 21,450 lb (9,729.5 kg).
¹ Indicator stock.

(2) At or near the beginning the fishing year, landings for each stock, stock complex, or indicator stock will be evaluated relative to the ACL based on a moving multi-year average of landings, as described in the FMP. If NMFS estimates that landings for a stock, stock complex, or indicator stock have exceeded the ACL specified in paragraph (a)(1) of this section for the stock or stock complex, the Assistant Administrator for NOAA Fisheries (AA) will file a notification with the Office of the Federal Register to reduce the length of the fishing season for the stock or stock complex within that fishing year by the amount necessary to prevent landings from exceeding the ACL for the stock or stock complex, unless NMFS determines that a fishing season reduction is not necessary based on the best scientific information available. If NMFS determines that the ACL for a particular stock or stock complex was exceeded because data collection or monitoring improved rather than because landings increased, NMFS will not reduce the length of the fishing season for the stock or stock complex. Any fishing season reduction required under this paragraph (a)(2) will be applied starting from September 30 and moving earlier toward the beginning of the fishing year. If the length of the required fishing season reduction exceeds the time period of January 1 through September 30, any additional fishing season reduction will be applied starting from October 1 and moving later toward the end of the fishing year.

(b) Pelagic fish. The ACLs and ACTs are given in round weight.

(1) Dolphinfish. (i) ACL—86,633 lb (39,296 kg).

(ii) ACT—77,970 lb (35,366.5 kg).

(2) Wahoo. (i) ACL—27,260 lb (12,364.9 kg).

(ii) ACT—24,534 lb (11,128.4 kg).

(3) Pelagic fish AM application. At or near the beginning the fishing year, landings for the stock or stock complex will be evaluated relative to the ACT for the stock or stock complex based on a moving multi-year average of landings, as described in the FMP. If NMFS estimates that landings have exceeded the ACT specified in paragraph (b) of this section, NMFS in consultation with the Caribbean Fishery Management Council will determine appropriate corrective action.

(c) Spiny lobster. (1) ACL—197,528 lb (89,597.1 kg), round weight.

(2) At or near the beginning the fishing year, landings will be evaluated relative to the ACL based on a moving multi-year average of landings, as described in the FMP. If NMFS estimates that landings have exceeded the ACL specified in paragraph (c)(1) of this section, the AA will file a notification with the Office of the Federal Register to reduce the length of the fishing season for spiny lobster within that fishing year by the amount necessary to prevent landings from exceeding the ACL, unless NMFS determines that a fishing season reduction is not necessary based on the best scientific information available. If NMFS determines the ACL was exceeded because data collection or monitoring improved rather than because landings increased, NMFS will not reduce the length of the fishing season. Any fishing season reduction required under this paragraph (c)(2) will be applied starting from September 30 and moving earlier toward the beginning of the fishing year. If the length of the required fishing season reduction exceeds the time period of January 1 through September 30, any additional fishing season reduction will be applied starting from October 1 and moving later toward the end of the fishing year.

(d) [Reserved]

(e) Queen conch. (1) ACL—50,000 lb (22,679.6 kg), round weight.

(2) If NMFS estimates landings reach or are projected to reach the ACL specified in paragraph (e)(1) of this section, the AA will close the area east of 64°34′ W longitude in the EEZ around St. Croix to the harvest and possession of queen conch by filing a notification of the closure with the Office of the Federal Register. During the closure period, no person may fish for or possess a queen conch in or from the area east of 64°34′ W longitude in the EEZ around St. Croix.

(f) Closure provisions for reef fish, spiny lobster, and queen conch. The following restrictions apply during a fishing season closure for reef fish, spiny lobster, or queen conch in the EEZ around St. Croix. During the closure period announced in the notification filed pursuant to paragraph (a)(2), (c)(2), or (e)(2) of this section, such stock or stock complex in or from the EEZ around St. Croix may not be harvested, possessed, purchased, or sold, and the commercial trip limits and recreational bag and possession limits are zero.

§ 622.481 Size limits.

All size limits in this section are minimum size limits unless specified otherwise. A fish not in compliance with its size limit in or from the EEZ around St. Croix may not be possessed, sold, or purchased, and must be released immediately with a minimum of harm. The operator of a vessel that fishes in the EEZ around St. Croix is responsible for ensuring that all species on board are in compliance with the size limits specified in this section. See § 622.10 regarding requirements for landing fish intact. See § 622.485(c)(2) regarding requirements for landing spiny lobster intact. See § 622.485(e) regarding requirements for landing queen conch with the meat and shell intact.

(a) Reef fish. (1) Yellowtail snapper—12 inches (30.5 cm), TL.

(2) Parrotfishes, except for redband parrotfish, and prohibited blue parrotfish, midnight parrotfish, or rainbow parrotfish—9 inches (22.9 cm), FL.

(3) Redband parrotfish—8 inches (20.3 cm), FL.

(b) [Reserved]

(c) Spiny lobster. 3.5 inches (8.9 cm), carapace length.

(d) [Reserved]

(e) Queen conch. (1) The minimum size limit is either 9 inches (22.9 cm) in length, that is, from the tip of the spire to the distal end of the shell, or ⅜-inch (9.5 mm) in lip width at its widest point.

(2) A queen conch not in compliance with its size limit, as specified in paragraph (e)(1) of this section, in or from the EEZ around St. Croix, may not be possessed, sold, or purchased and must be released immediately with a minimum of harm. The operator of a vessel that fishes in the EEZ around St. Croix is responsible for ensuring that queen conch on board are in compliance with the size limit specified in paragraph (e)(1) this section.

§ 622.482 Commercial trip limits.

Commercial trip limits are limits on the amount of the applicable species that may be possessed on board or landed, purchased, or sold from a vessel per day. A person who fishes in the EEZ around St. Croix may not combine a trip limit specified in this section with any trip or possession limit applicable to state waters. A species subject to a trip limit specified in this section taken in the EEZ around St. Croix may not be transferred at sea, regardless of where such transfer takes place.

(a) Queen conch. (1) 200.

(2) The trip limits specified in paragraph (a)(1) of this section apply to a vessel that has at least one person on board with a valid commercial fishing license issued by Puerto Rico or the U.S. Virgin Islands. If no person on the vessel has a valid commercial fishing license issued by Puerto Rico or the U.S. Virgin Islands, the bag and possession limits specified in § 622.484(e) apply.

(b) [Reserved]

§ 622.483 Restrictions on sale or purchase.

(a) Reef fish. A live red hind or live mutton snapper in or from the EEZ around St. Croix may not be sold or purchased and used in the marine aquarium trade.

(b) [Reserved]

(c) Coral. (1) No person may sell or purchase a coral harvested in the EEZ around St. Croix.

(2) A coral that is sold in St. Croix will be presumed to have been harvested in the EEZ around St. Croix, unless it is accompanied by documentation showing that it was harvested elsewhere. Such documentation must contain:

(i) The information specified in subpart K of part 300 of this title for marking containers or packages of fish or wildlife that are imported, exported, or transported in interstate commerce.

(ii) The name and home port of the vessel, or the name and address of the individual harvesting the coral.

(iii) The port and date of landing the coral.

(iv) A statement signed by the person selling the coral attesting that, to the best of his or her knowledge, information, and belief, such coral was harvested from other than in the EEZ around St. Croix or the waters of Puerto Rico or the U.S. Virgin Islands.

§ 622.484 Bag and possession limits.

Section 622.11(a) provides the general applicability for bag and possession limits. However, § 622.11(a) notwithstanding, the bag limits of this section do not apply to a person who has a valid commercial fishing license issued by Puerto Rico or the U.S. Virgin Islands.

(a) Reef fish. (1) Groupers, parrotfishes, and snappers combined—5 per person per day or, if 3 or more persons are aboard, 15 per vessel per day; but not to exceed 2 parrotfish per person per day or 6 parrotfish per vessel per day.

(2) Angelfishes, grunts, squirrelfishes, surgeonfishes, and triggerfishes combined—5 per person per day or, if 3 or more persons are aboard, 15 per vessel per day, but not to exceed 1 surgeonfish per person per day or 4 surgeonfish per vessel per day.

(b) [Reserved]

(c) Spiny lobster. 3 per person per day, not to exceed 10 per vessel per day, whichever is less.

(d) [Reserved]

(e) Queen conch. 3 per person per day or, if more than 4 persons are aboard, 12 per vessel per day.

§ 622.485 Other harvest restrictions.

(a)-(b) [Reserved]

(c) Spiny lobster—(1) Prohibition on harvest of egg-bearing spiny lobster. Egg-bearing spiny lobster in the EEZ around St. Croix must be returned to the water unharmed. An egg-bearing spiny lobster may be retained in a spiny lobster trap, provided the trap is returned immediately to the water. An egg-bearing spiny lobster may not be stripped, scraped, shaved, clipped, or in any other manner molested, in order to remove the eggs.

(2) Landing spiny lobster intact. (i) A spiny lobster in or from the EEZ around St. Croix must be maintained with head and carapace intact through offloading ashore.

(ii) The operator of a vessel that fishes in the EEZ around St. Croix is responsible for ensuring that spiny lobster on that vessel are maintained intact through offloading ashore, as specified in this section.

(d) [Reserved]

(e) Queen conch. (1) A queen conch in or from the EEZ around St. Croix must be maintained with meat and shell intact through offloading ashore.

(2) The operator of a vessel that fishes in the EEZ around St. Croix is responsible for ensuring that queen conch on that vessel are maintained intact through offloading ashore, as specified in this section.

§ 622.486 Spiny lobster import prohibitions.

(a) Minimum size limits for imported spiny lobster. Multiple minimum size limits apply to importation of spiny lobster into the United States—one that applies any place subject to the jurisdiction of the United States other than Puerto Rico or the U.S. Virgin Islands, and more restrictive minimum size limits that apply to Puerto Rico, St Croix, and St. Thomas and St. John, respectively.

(1) No person may import a spiny lobster with less than a 6-ounce (170-gram) tail weight into St. Croix. For the purposes of paragraph (a) of this section, a 6-ounce (170-gram) tail weight is defined as a tail that weighs 5.9-6.4 ounces (167-181 grams). If the documentation accompanying an imported spiny lobster, including but not limited to product packaging, customs entry forms, bills of lading, brokerage forms, or commercial invoices, indicates that the product does not satisfy the minimum tail-weight, the person importing such spiny lobster has the burden to prove that such spiny lobster does satisfy the minimum tail-weight requirement or that such spiny lobster has a tail length of 6.2 inches (15.75 cm) or greater or that such spiny lobster has or had a carapace length of 3.5 inches (8.89 cm) or greater. If the imported product itself does not satisfy the minimum tail-weight requirement, the person importing such spiny lobster has the burden to prove that such spiny lobster has a tail length of 6.2 inches (15.75 cm) or greater or that such spiny lobster has or had a carapace length of 3.5 inches (8.89 cm) or greater. If the burden is satisfied, such spiny lobster will be considered to be in compliance with the minimum 6-ounce (170-gram) tail-weight requirement.

(2) See § 622.409 regarding the minimum size limit that applies to spiny lobster imported into any place subject to the jurisdiction of the United States other than Puerto Rico or the U.S. Virgin Islands.

(3) See subparts S and U of this part for the minimum size limits that apply to spiny lobster imported into Puerto Rico and St. Thomas and St. John, respectively.

(b) Additional spiny lobster import prohibitions—(1) Prohibition related to tail meat. No person may import into any place subject to the jurisdiction of the United States spiny lobster tail meat that is not in whole tail form with the exoskeleton attached.

(2) Prohibitions related to egg-bearing spiny lobster. No person may import into any place subject to the jurisdiction of the United States spiny lobster with eggs attached or spiny lobster from which eggs or pleopods (swimmerets) have been removed or stripped. Pleopods are the first five pairs of abdominal appendages.

§ 622.487 Adjustment of management measures.

In accordance with the framework procedure of the Fishery Management Plan for the EEZ around St Croix, the RA may establish or modify the following items.

(a) Standard open framework procedures. Re-specify maximum sustainable yield (MSY), optimum yield (OY), overfishing limit (OFL), maximum fishing mortality threshold (MFMT), minimum stock size threshold (MSST), acceptable biological catch (ABC), ACL, ACT, sustainable yield level, and other related management reference points and status determination criteria; establish or revise rebuilding plans; revise AMs; modify reporting or monitoring requirements, and time or area closures and closure procedures.

(b) Abbreviated open framework procedures. Gear or vessel marking requirements, maintaining fish in a specific condition, size limits, commercial trip limits, recreational bag and possession limits, changes to the length of an established closed season of no more than 1 day, and gear modifications to address conservation issues including responding to interactions with species listed under the Endangered Species Act or protected under the Marine Mammal Protection Act.

Subpart U—FMP for the EEZ around St. Thomas and St. John

§ 622.505 Management area.

The management area is the EEZ around St. Thomas and St. John bounded by rhumb lines connecting the following points and geographic instructions in order:

Table 1 to § 622.505
Point | North lat. | West long.
A (intersects with the international and EEZ boundary) | 19°37′29″ | 65°20′57″
From Point A proceed along the international and EEZ boundary southeasterly to Point G |  |
G | 18°03′03″ | 64°38′03″
D | 18°01′16.9636″ | 64°57′38.817″
C | 18°13′59.0606″ | 65°05′33.058″
From Point C proceed along the 3-nautical mile territorial boundary around St. Thomas and St. John northerly to Point B |  |
B | 18°25′46.3015″ | 65°06′31.866″
A (intersects with the international and EEZ boundary) | 19°37′29″ | 65°20′57″

§ 622.506 Definitions.

In addition to the definitions and acronyms in § 622.2, the terms and acronyms used in this subpart have the following meanings:

Coral means any or all species, or a part thereof, of coral occurring in the EEZ around St. Thomas and St. John, including any or all species, or a part thereof, of soft corals and gorgonians in Order Alcyonacea; sea pens and sea pensies in Order Pennatulacea; black corals in Order Antipatharia; and stony corals in Order Scleractinia; and, within Order Anthoatheacata, fire corals in Family Milleporidae and lace corals in Family Stylasteridae.

Coral reef resource means any or all species, or a part thereof, of coral, sea cucumber, and sea urchin.

Pelagic fish means any or all species, or a part thereof, as follows:

Table 1 to § 622.506
Class or family | Scientific name | English common name
Dolphinfishes—Coryphaenidae | Coryphaena hippurus | Dolphinfish.
Mackerels and tunas—Scombridae | Acanthocybium solandri | Wahoo.

Queen conch means the species Lobatus gigas, or a part thereof.

Reef fish means any or all species, or a part thereof, as follows:

Table 2 to § 622.506
Class or family | Scientific name | English common name
Angelfishes—Pomacanthidae | Pomacanthus paru | French angelfish.
| Pomacanthus arcuatus | Gray angelfish.
| Holacanthus ciliaris | Queen angelfish.
Groupers—Serranidae | Mycteroperca bonaci | Black grouper.
| Cephalopholis fulva | Coney.
| Epinephelus itajara | Goliath grouper.
| Hyporthodus mystacinus | Misty grouper.
| Epinephelus striatus | Nassau grouper.
| Epinephelus morio | Red grouper.
| Epinephelus guttatus | Red hind.
| Mycteroperca tigris | Tiger grouper.
| Hyporthodus flavolimbatus | Yellowedge grouper.
| Mycteroperca venenosa | Yellowfin grouper.
| Mycteroperca interstitialis | Yellowmouth grouper.
Grunts—Haemulidae | Haemulon sciurus | Bluestriped grunt.
| Haemulon album | Margate.
| Haemulon plumierii | White grunt.
Jacks—Carangidae | Caranx crysos | Blue runner.
Parrotfishes—Scaridae | Scarus coeruleus | Blue parrotfish.
| Scarus coelestinus | Midnight parrotfish.
| Scarus taeniopterus | Princess parrotfish.
| Scarus vetula | Queen parrotfish.
| Scarus guacamaia | Rainbow parrotfish.
| Sparisoma aurofrenatum | Redband parrotfish.
| Sparisoma rubripinne | Redfin parrotfish.
| Sparisoma chrysopterum | Redtail parrotfish.
| Sparisoma viride | Stoplight parrotfish.
| Scarus iseri | Striped parrotfish.
Porgies—Sparidae | Calamus bajonado | Jolthead porgy.
| Calamus calamus | Saucereye porgy.
| Archosargus rhomboidalis | Sea bream.
| Calamus penna | Sheepshead porgy.
Snappers—Lutjanidae | Apsilus dentatus | Black snapper.
| Lutjanus buccanella | Blackfin snapper.
| Lutjanus synagris | Lane snapper.
| Lutjanus analis | Mutton snapper.
| Etelis oculatus | Queen snapper.
| Lutjanus vivanus | Silk snapper.
| Rhomboplites aurorubens | Vermilion snapper.
| Ocyurus chrysurus | Yellowtail snapper.
Surgeonfishes—Acanthuridae | Acanthurus coeruleus | Blue tang.
| Acanthurus chirurgus | Doctorfish.
| Acanthurus tractus | Ocean surgeonfish.
Triggerfishes—Balistidae | Balistes vetula | Queen triggerfish.
Wrasses—Labridae | Lachnolaimus maximus | Hogfish.

Sea cucumber means any or all species, or a part thereof, in Class Holothuroidea and occurring in the EEZ of St. Thomas and St. John.

Sea urchin means any or all species of sea urchin, or a part thereof, in Class Echinoidea and occurring in the EEZ of St. Thomas and St. John.

Spiny lobster trap means a trap and its component parts, including the lines and buoys, used for or capable of taking spiny lobster and meeting the spiny lobster trap construction specifications of this subpart.

§ 622.507 [Reserved]

§ 622.508 Vessel identification.

See § 622.6 for vessel identification requirements applicable to this subpart.

§ 622.509 Gear identification.

(a) Reef fish—(1) Fish traps and associated buoys. All fish traps used or possessed in the EEZ around St. Thomas and St. John must display the official number specified for the vessel by Puerto Rico or the U.S. Virgin Islands. A fish trap that is fished individually, rather than tied together in a trap line, must have at least one buoy attached that floats on the surface. Fish traps that are tied together in a trap line must have at least one buoy that floats at the surface attached at each end of the trap line. All buoys must display the official number and color code assigned to the vessel by Puerto Rico or the U.S. Virgin Islands, whichever is applicable.

(2) Presumption of ownership of fish traps. A fish trap in the EEZ around St. Thomas and St. John will be presumed to be the property of the most recently documented owner. This presumption will not apply with respect to such traps that are lost or sold if the owner reports the loss or sale within 15 days to the RA.

(3) Disposition of unmarked fish traps or buoys. An unmarked fish trap or buoy deployed in the EEZ around St. Thomas and St. John is illegal and may be disposed of in any appropriate manner by the Assistant Administrator or an authorized officer.

(b) [Reserved]

(c) Spiny lobster—(1) Spiny lobster traps and associated buoys. All spiny lobster traps used or possessed in the EEZ around St. Thomas and St. John must display the official number specified for the vessel by Puerto Rico or the U.S. Virgin Islands. A spiny lobster trap that is fished individually, rather than tied together in a trap line, must have at least one buoy attached that floats on the surface. Spiny lobster traps that are tied together in a trap line must have at least one buoy that floats at the surface attached at each end of the trap line. All buoys must display the official number and color code assigned to the vessel by Puerto Rico or the U.S. Virgin Islands, whichever is applicable.

(2) Presumption of ownership of spiny lobster traps. A spiny lobster trap in the EEZ around St. Thomas and St. John will be presumed to be the property of the most recently documented owner. This presumption will not apply with respect to such traps that are lost or sold if the owner reports the loss or sale within 15 days to the RA.

(3) Disposition of unmarked spiny lobster traps or buoys. An unmarked spiny lobster trap or buoy deployed in the EEZ around St. Thomas and St. John is illegal and may be disposed of in any appropriate manner by the Assistant Administrator or an authorized officer.

§ 622.510 Trap construction specifications and tending restrictions.

(a) Reef fish—(1) Construction specifications—(i) Minimum mesh size. A bare-wire fish trap used or possessed in the EEZ around St. Thomas and St. John that has hexagonal mesh openings must have a minimum mesh size of 1.5 inches (3.8 cm) in the smallest dimension measured between centers of opposite strands. A bare-wire fish trap used or possessed in the EEZ around St. Thomas and St. John that has other than hexagonal mesh openings or a fish trap of other than bare wire, such as coated wire or plastic, used or possessed in the EEZ around St. Thomas and St. John, must have a minimum mesh size of 2 inches (5.1 cm) in the smallest dimension measured between centers of opposite strands.

(ii) Escape mechanisms. A fish trap used or possessed in the EEZ around St. Thomas and St. John must have a panel located on one side of the trap, excluding the top, bottom, and side containing the trap entrance. The opening covered by the panel must measure not less than 8 by 8 inches (20.3 by 20.3 cm). The mesh size of the panel may not be smaller than the mesh size of the trap. The panel must be attached to the trap with untreated jute twine with a diameter not exceeding ⅛-inch (3.2 mm). An access door may serve as the panel, provided it is on an appropriate side, it is hinged only at its bottom, its only other fastening is untreated jute twine with a diameter not exceeding ⅛-inch (3.2 mm), and such fastening is at the top of the door so that the door will fall open when such twine degrades. Jute twine used to secure a panel may not be wrapped or overlapped.

(2) Tending restrictions. A fish trap in the EEZ around St. Thomas and St. John may be pulled or tended only by a person (other than an authorized officer) aboard the fish trap owner's vessel, or aboard another vessel if such vessel has on board written consent of the trap owner, or if the trap owner is aboard and has documentation verifying his identification number and color code. An owner's written consent must specify the time period such consent is effective and the trap owner's gear identification number and color code.

(b) [Reserved]

(c) Spiny lobster—(1) Construction specifications—(i) Escape mechanisms. A spiny lobster trap used or possessed in the EEZ around St. Thomas and St. John must contain on any vertical side or on the top a panel no smaller in diameter than the throat or entrance of the trap. The panel must be made of or attached to the trap by one of the following degradable materials:

(A) Untreated fiber of biological origin with a diameter not exceeding ⅛-inch (3.2 mm). This includes, but is not limited to tyre palm, hemp, jute, cotton, wool, or silk.

(B) Ungalvanized or uncoated iron wire with a diameter not exceeding 1/16-inch (1.6 mm), that is, 16-gauge wire.

(ii) [Reserved]

(2) Tending restrictions. A spiny lobster trap in the EEZ around St. Thomas and St. John may be pulled or tended only by a person (other than an authorized officer) aboard the trap owner's vessel, or aboard another vessel if such vessel has on board written consent of the trap owner, or if the trap owner is aboard and has documentation verifying his identification number and color code. An owner's written consent must specify the time period such consent is effective and the trap owner's gear identification number and color code.

§ 622.511 Anchoring restrictions.

The owner or operator of any fishing vessel, recreational or commercial, that fishes for or possesses reef fish in or from the EEZ around St. Thomas and St. John must ensure that the vessel uses only an anchor retrieval system that recovers the anchor by its crown, thereby preventing the anchor from dragging along the bottom during recovery. For a grapnel hook, this could include an incorporated anchor rode reversal bar that runs parallel along the shank, which allows the rode to reverse and slip back toward the crown. For a fluke- or plow-type anchor, a trip line consisting of a line from the crown of the anchor to a surface buoy is required.

§ 622.512 Prohibited gear and methods.

Also see § 622.9 for additional prohibited gear and methods that apply more broadly to multiple fisheries or in some cases all fisheries.

(a) Reef fish—(1) Poisons. A poison, drug, or other chemical may not be used to fish for reef fish in the EEZ around St. Thomas and St. John.

(2) Powerheads. A powerhead may not be used in the EEZ around St. Thomas and St. John to harvest reef fish. The possession of a mutilated reef fish in or from the EEZ around St. Thomas and St. John and a powerhead constitutes a rebuttable presumption of a violation of this paragraph (a)(2).

(3) Gillnets and trammel nets. A gillnet or trammel net may not be used in the EEZ around St. Thomas and St. John to fish for reef fish. The possession of a reef fish in or from the EEZ around St. Thomas and St. John and a gillnet or trammel net constitutes a rebuttable presumption of a violation of this paragraph (a)(3). A gillnet or trammel net used in the EEZ around St. Thomas and St. John to fish for any other species must be tended at all times.

(b) [Reserved]

(c) Spiny lobster—(1) Spears and hooks. A spear, hook, or similar device may not be used in the EEZ around St. Thomas and St. John to harvest a spiny lobster. The possession of a speared, pierced, or punctured spiny lobster in or from the EEZ around St. Thomas and St. John constitutes a rebuttable presumption of a violation of this paragraph (c)(1).

(2) Gillnets and trammel nets. A gillnet or trammel net may not be used in the EEZ around St. Thomas and St. John to fish for spiny lobster. The possession of a spiny lobster in or from the EEZ around St. Thomas and St. John and a gillnet or trammel net constitutes a rebuttable presumption of a violation of this paragraph (c)(2). A gillnet or trammel net used in the EEZ around St. Thomas and St. John to fish for any other species must be tended at all times.

§ 622.513 Prohibited species.

The harvest and possession restrictions of this section apply without regard to whether the species is harvested by a vessel operating under a commercial vessel permit. The operator of a vessel that fishes in the EEZ around St. Thomas and St. John is responsible for the limit applicable to that vessel. Any of the following species caught in the EEZ around St. Thomas and St. John must be released immediately with a minimum of harm.

(a) Reef fish. No person may fish for or possess the following reef fish species in or from the EEZ around St. Thomas and St. John.

(1) Goliath grouper or Nassau grouper.

(2) Blue parrotfish, midnight parrotfish, or rainbow parrotfish.

(b)-(c) [Reserved]

(d) Coral, sea cucumber, and sea urchin. A coral, sea cucumber, or sea urchin may not be fished for or possessed in or from the EEZ around St. Thomas and St. John. The taking of coral in the EEZ around St. Thomas and St. John is not considered unlawful possession provided it is returned immediately to the sea in the general area of fishing.

(e) Queen conch. No person may fish for or possess queen conch in or from the EEZ around St. Thomas and St. John.

§ 622.514 Area and seasonal closures.

(a) Closures applicable to specific areas—(1) Grammanik Bank. The Grammanik Bank is bounded by rhumb lines connecting, in order, the points listed in Table 1 to this paragraph (a)(1).

(i) From February 1 through April 30, each year, no person may fish for or possess any species of fish, except highly migratory species, in or from the Grammanik Bank. The prohibition on possession does not apply to such fish harvested and landed ashore prior to the closure. For the purpose of this paragraph (a)(1)(i), fish means finfish, mollusks, crustaceans, and all other forms of marine animal and plant life other than marine mammals and birds. Highly migratory species means bluefin, bigeye, yellowfin, albacore, and skipjack tunas; swordfish; sharks (listed in appendix A to part 635 of this title); and white marlin, blue marlin, sailfish, and longbill spearfish.

(ii) Fishing with pots, traps, bottom longlines, gillnets or trammel nets is prohibited year-round in the Grammanik Bank.

Table 1 to § 622.514(a)(1)—Grammanik Bank
Point | North lat. | West long.
A | 18°11.898′ | 64°56.328′
B | 18°11.645′ | 64°56.225′
C | 18°11.058′ | 64°57.810′
D | 18°11.311′ | 64°57.913′
A | 18°11.898′ | 64°56.328′

(2) Hind Bank Marine Conservation District (MCD). The Hind Bank MCD is bounded by rhumb lines connecting, in order, the points listed in Table 2 to this paragraph (a)(2). Fishing for any species and anchoring by fishing vessels is prohibited year-round in those parts of the Hind Bank MCD that are in the EEZ around St. Thomas and St. John.

Table 2 to § 622.514(a)(2)—Hind Bank MCD
Point | North lat. | West long.
A | 18°13.2′ | 65°06.0′
B | 18°13.2′ | 64°59.0′
C | 18°11.8′ | 64°59.0′
D | 18°10.7′ | 65°06.0′
A | 18°13.2′ | 65°06.0′

(b) Seasonal closures applicable to specific species—(1) Black, red, tiger, yellowedge, and yellowfin grouper closure. From February 1 through April 30, each year, no person may fish for or possess black, red, tiger, yellowedge, or yellowfin grouper in or from the EEZ around St. Thomas and St. John. The prohibition on possession does not apply to such grouper harvested and landed ashore prior to the closure.

(2) Black, blackfin, silk, and vermilion snapper closure. From October 1 through December 31, each year, no person may fish for or possess black, blackfin, silk, or vermilion snapper in or from the EEZ around St. Thomas and St. John. The prohibition on possession does not apply to such snapper harvested and landed ashore prior to the closure.

(3) Lane and mutton snapper closure. From April 1 through June 30, each year, no person may fish for or possess lane or mutton snapper in or from the EEZ around St. Thomas and St. John. The prohibition on possession does not apply to such snapper harvested and landed ashore prior to the closure.

§ 622.515 Annual catch limits (ACLs), annual catch targets (ACTs), and accountability measures (AMs).

(a) Reef fish. (1) The following ACLs are as follows and given in round weight.

Table 1 to § 622.515(a)(1)
Family | Stock or stock complex and species composition | ACL
Angelfishes | Angelfish—French angelfish, gray angelfish,¹ queen angelfish | 18,297 lb (8,299.3 kg).
Groupers | Grouper 3—coney, red hind ¹ | 65,030 lb (29,497.1 kg).
| Grouper 4—black grouper, red grouper, tiger grouper, yellowfin grouper | 2,254 lb (1,022.3 kg).
| Grouper 5—misty grouper, yellowedge grouper, yellowmouth grouper | 390 lb (176.9 kg).
Grunts | Grunts 1—bluestriped grunt, white grunt ¹ | 30,581 lb (13,871.3 kg).
| Grunts 2—margate | 2,319 lb (1,051.8 kg).
Jacks | Jacks—blue runner | 44,665 lb (20,259.7 kg).
Parrotfishes | Parrotfish 2—princess parrotfish, queen parrotfish, redband parrotfish, redfin parrotfish, redtail parrotfish¹, stoplight parrotfish,¹ striped parrotfish | 60,026 lb (27,227.3 kg).
Porgies | Porgies—jolthead porgy, saucereye porgy,¹ sea bream, sheepshead porgy | 29,039 lb (13,171.8 kg).
Snappers | Snapper 1—black snapper, blackfin snapper,¹ silk snapper, vermilion snapper | 20,090 lb (9,112.6 kg).
| Snapper 2—queen snapper | 568 lb (257.6 kg).
| Snapper 3—lane snapper, mutton snapper ¹ | 30,784 lb (13,963.3 kg).
| Snapper 4—yellowtail snapper | 88,952 lb (40,347.9 kg).
Surgeonfishes | Surgeonfish—blue tang, doctorfish,¹ ocean surgeonfish | 22,630 lb (10,264.7 kg).
Triggerfishes | Triggerfish—queen triggerfish | 97,670 lb (44,302.3 kg).
Wrasses | Wrasses—hogfish | 2,951 lb (1,338.5 kg).
¹ Indicator stock.

(2) At or near the beginning of the fishing year, landings for each stock, stock complex, or indicator stock will be evaluated relative to the ACL based on a moving multi-year average of landings, as described in the FMP. If NMFS estimates that landings for a stock, stock complex, or indicator stock have exceeded the ACL specified in paragraph (a)(1) of this section for the stock or stock complex, the Assistant Administrator for NOAA Fisheries (AA) will file a notification with the Office of the Federal Register to reduce the length of the fishing season for the stock or stock complex within that fishing year by the amount necessary to prevent landings from exceeding the ACL for the stock or stock complex, unless NMFS determines that a fishing season reduction is not necessary based on the best scientific information available. If NMFS determines that the ACL for a particular stock or stock complex was exceeded because data collection or monitoring improved rather than because landings increased, NMFS will not reduce the length of the fishing season for the stock or stock complex. Any fishing season reduction required under this paragraph (a)(2) will be applied starting from September 30 and moving earlier toward the beginning of the fishing year. If the length of the required fishing season reduction exceeds the time period of January 1 through September 30, any additional fishing season reduction will be applied starting from October 1 and moving later toward the end of the fishing year.

(b) Pelagic fish. The ACLs and ACTs are given in round weight.

(1) Dolphinfish. (i) ACL—9,778 lb (4,435.2 kg).

(ii) ACT—8,800 lb (3,991.6 kg).

(2) Wahoo. (i) ACL—6,879 lb (3,120.2 kg).

(ii) ACT—6,191 lb (2,808.1 kg).

(3) Pelagic fish AM application. At or near the beginning the fishing year, landings for the stock or stock complex will be evaluated relative to the ACT for the stock or stock complex based on a moving multi-year average of landings, as described in the FMP. If NMFS estimates that landings have exceeded the ACT specified in paragraph (b) of this section, NMFS in consultation with the Caribbean Fishery Management Council will determine appropriate corrective action.

(c) Spiny lobster. (1) ACL—209,210 lb (94,896 kg), round weight.

(2) At or near the beginning the fishing year, landings will be evaluated relative to the ACL based on a moving multi-year average of landings, as described in the FMP. If NMFS estimates that landings have exceeded the ACL specified in paragraph (c)(1) of this section, the AA will file a notification with the Office of the Federal Register to reduce the length of the fishing season for spiny lobster within that fishing year by the amount necessary to prevent landings from exceeding the ACL, unless NMFS determines that a fishing season reduction is not necessary based on the best scientific information available. If NMFS determines the ACL was exceeded because data collection or monitoring improved rather than because landings increased, NMFS will not reduce the length of the fishing season. Any fishing season reduction required under this paragraph (c)(2) will be applied starting from September 30 and moving earlier toward the beginning of the fishing year. If the length of the required fishing season reduction exceeds the time period of January 1 through September 30, any additional fishing season reduction will be applied starting from October 1 and moving later toward the end of the fishing year.

(d)-(e) [Reserved]

(f) Closure provisions for reef fish and spiny lobster. The following restrictions apply during a fishing season closure for reef fish or spiny lobster in the EEZ around St. Thomas and St. John. During the closure period announced in the notification filed pursuant to paragraph (a)(2) or (c)(2) of this section, such stock or stock complex in or from the EEZ around St. Thomas and St. John may not be harvested, possessed, purchased, or sold, and the bag and possession limits for such stock or stock complex are zero.

§ 622.516 Size limits.

All size limits in this section are minimum size limits unless specified otherwise. A fish not in compliance with its size limit in or from the EEZ around St. Thomas and St. John may not be possessed, sold, or purchased, and must be released immediately with a minimum of harm. The operator of a vessel that fishes in the EEZ around St. Thomas and St. John is responsible for ensuring that all species on board are in compliance with the size limits specified in this section. See § 622.10 regarding requirements for landing fish intact. See § 622.520(c)(2) regarding requirements for landing spiny lobster intact.

(a) Reef fish. (1) Yellowtail snapper—12 inches (30.5 cm), TL.

(2) [Reserved]

(b) [Reserved]

(c) Spiny lobster. 3.5 inches (8.9 cm), carapace length.

§ 622.517 [Reserved]

§ 622.518 Restrictions on sale or purchase.

(a) Reef fish. A live red hind or live mutton snapper in or from the EEZ around St. Thomas and St. John may not be sold or purchased and used in the marine aquarium trade.

(b) [Reserved]

(c) Coral. (1) No person may sell or purchase a coral harvested in the EEZ around St. Thomas and St. John.

(2) A coral that is sold in St. Thomas or St. John will be presumed to have been harvested in the EEZ around St. Thomas and St. John, unless it is accompanied by documentation showing that it was harvested elsewhere. Such documentation must contain:

(i) The information specified in subpart K of part 300 of this title for marking containers or packages of fish or wildlife that are imported, exported, or transported in interstate commerce.

(ii) The name and home port of the vessel, or the name and address of the individual harvesting the coral.

(iii) The port and date of landing the coral.

(iv) A statement signed by the person selling the coral attesting that, to the best of his or her knowledge, information, and belief, such coral was harvested from other than in the EEZ around St. Thomas and St. John, or the waters of Puerto Rico or the U.S. Virgin Islands.

§ 622.519 Bag and possession limits.

Section 622.11(a) provides the general applicability for bag and possession limits. However, § 622.11(a) notwithstanding, the bag limits of this section do not apply to a person who has a valid commercial fishing license issued by Puerto Rico or the U.S. Virgin Islands.

(a) Reef fish. (1) Groupers, parrotfishes, and snappers combined—5 per person per day or, if 3 or more persons are aboard, 15 per vessel per day; but not to exceed 2 parrotfish per person per day or 6 parrotfish per vessel per day.

(2) Angelfishes, grunts, jacks, porgies, surgeonfishes, triggerfishes, and wrasses combined—5 per person per day or, if 3 or more persons are aboard, 15 per vessel per day, but not to exceed 1 surgeonfish per person per day or 4 surgeonfish per vessel per day.

(b) [Reserved]

(c) Spiny lobster. 3 per person per day, not to exceed 10 per vessel per day, whichever is less.

§ 622.520 Other harvest restrictions.

(a)-(b) [Reserved]

(c) Spiny lobster—(1) Prohibition on harvest of egg-bearing spiny lobster. Egg-bearing spiny lobster in the EEZ around St. Thomas and St. John must be returned to the water unharmed. An egg-bearing spiny lobster may be retained in a spiny lobster trap, provided the trap is returned immediately to the water. An egg-bearing spiny lobster may not be stripped, scraped, shaved, clipped, or in any other manner molested, in order to remove the eggs.

(2) Landing spiny lobster intact. (i) A spiny lobster in or from the EEZ around St. Thomas and St. John must be maintained with head and carapace intact through offloading ashore.

(ii) The operator of a vessel that fishes in the EEZ around St. John and St. Thomas is responsible for ensuring that spiny lobster on that vessel are maintained intact through offloading ashore, as specified in this section.

§ 622.521 Spiny lobster import prohibitions.

(a) Minimum size limits for imported spiny lobster. Multiple minimum size limits apply to importation of spiny lobster into the United States—one that applies any place subject to the jurisdiction of the United States other than Puerto Rico or the U.S. Virgin Islands, and more restrictive minimum size limits that apply to Puerto Rico, St. Croix, and St. Thomas and St. John, respectively.

(1) No person may import a spiny lobster with less than a 6-ounce (170-gram) tail weight into St. Thomas or St. John. For the purposes of paragraph (a) of this section, a 6-ounce (170-gram) tail weight is defined as a tail that weighs 5.9-6.4 ounces (167-181 grams). If the documentation accompanying an imported spiny lobster, including but not limited to product packaging, customs entry forms, bills of lading, brokerage forms, or commercial invoices, indicates that the product does not satisfy the minimum tail-weight, the person importing such spiny lobster has the burden to prove that such spiny lobster does satisfy the minimum tail-weight requirement or that such spiny lobster has a tail length of 6.2 inches (15.75 cm) or greater or that such spiny lobster has or had a carapace length of 3.5 inches (8.89 cm) or greater. If the imported product itself does not satisfy the minimum tail-weight requirement, the person importing such spiny lobster has the burden to prove that such spiny lobster has a tail length of 6.2 inches (15.75 cm) or greater or that such spiny lobster has or had a carapace length of 3.5 inches (8.89 cm) or greater. If the burden is satisfied, such spiny lobster will be considered to be in compliance with the minimum 6-ounce (170-gram) tail-weight requirement.

(2) See § 622.409 regarding the minimum size limit that applies to spiny lobster imported into any place subject to the jurisdiction of the United States other than Puerto Rico or the U.S. Virgin Islands.

(3) See subparts S and T of this part for the minimum size limits that apply to spiny lobster imported into Puerto Rico and St. Croix, respectively.

(b) Additional spiny lobster import prohibitions—(1) Prohibition related to tail meat. No person may import into any place subject to the jurisdiction of the United States spiny lobster tail meat that is not in whole tail form with the exoskeleton attached.

(2) Prohibitions related to egg-bearing spiny lobster. No person may import into any place subject to the jurisdiction of the United States spiny lobster with eggs attached or spiny lobster from which eggs or pleopods (swimmerets) have been removed or stripped. Pleopods are the first five pairs of abdominal appendages.

§ 622.522 Adjustment of management measures.

In accordance with the framework procedure of the Fishery Management Plan for the EEZ around St. Thomas and St. John, the RA may establish or modify the following items.

(a) Standard open framework procedures. Re-specify maximum sustainable yield (MSY), optimum yield (OY), overfishing limit (OFL), maximum fishing mortality threshold (MFMT), minimum stock size threshold (MSST), acceptable biological catch (ABC), ACL, ACT, sustainable yield level, and other related management reference points and status determination criteria; establish or revise rebuilding plans; revise AMs; modify reporting or monitoring requirements, and time or area closures and closure procedures.

(b) Abbreviated open framework procedures. Gear or vessel marking requirements, maintaining fish in a specific condition, size limits, commercial trip limits, recreational bag and possession limits, changes to the length of an established closed season of no more than 1 day, and gear modifications to address conservation issues including responding to interactions with species listed under the Endangered Species Act or protected under the Marine Mammal Protection Act.

Subpart V [Removed]

18. Remove subpart V, consisting of §§ 622.490 through 622.497.

19. Revise appendix A to read as follows:

Appendix A to Part 622—Species Tables

Table 1 to Appendix A to Part 622—Gulf of Mexico Reef Fish
Balistidae—Triggerfishes
Gray triggerfish, Balistes capriscus
Carangidae—Jacks
Greater amberjack, Seriola dumerili
Lesser amberjack, Seriola fasciata
Almaco jack, Seriola rivoliana
Banded rudderfish, Seriola zonata
Labridae—Wrasses
Hogfish, Lachnolaimus maximus
Lutjanidae—Snappers
Queen snapper, Etelis oculatus
Mutton snapper, Lutjanus analis
Blackfin snapper, Lutjanus buccanella
Red snapper, Lutjanus campechanus
Cubera snapper, Lutjanus cyanopterus
Gray (mangrove) snapper, Lutjanus griseus
Lane snapper, Lutjanus synagris
Silk snapper, Lutjanus vivanus
Yellowtail snapper, Ocyurus chrysurus
Wenchman, Pristipomoides aquilonaris
Vermilion snapper, Rhomboplites aurorubens
Malacanthidae—Tilefishes
Goldface tilefish, Caulolatilus chrysops
Blueline tilefish, Caulolatilus microps
Tilefish, Lopholatilus chamaeleonticeps
Serranidae—Groupers
Speckled hind, Epinephelus drummondhayi
Yellowedge grouper, Epinephelus flavolimbatus
Goliath grouper, Epinephelus itajara
Red grouper, Epinephelus morio
Warsaw grouper, Epinephelus nigritus
Snowy grouper, Epinephelus niveatus
Black grouper, Mycteroperca bonaci
Yellowmouth grouper, Mycteroperca interstitialis
Gag, Mycteroperca microlepis
Scamp, Mycteroperca phenax
Yellowfin grouper, Mycteroperca venenosa

Table 2 to Appendix A to Part 622—South Atlantic Snapper-Grouper
Balistidae—Triggerfishes
Gray triggerfish, Balistes capriscus
Carangidae—Jacks
Bar jack, Caranx ruber
Greater amberjack, Seriola dumerili
Lesser amberjack, Seriola fasciata
Almaco jack, Seriola rivoliana
Ephippidae—Spadefishes
Spadefish, Chaetodipterus faber
Haemulidae—Grunts
Margate, Haemulon album
Tomtate, Haemulon aurolineatum
Sailor's choice, Haemulon parra
White grunt, Haemulon plumierii
Labridae—Wrasses
Hogfish, Lachnolaimus maximus
Lutjanidae—Snappers
Queen snapper, Etelis oculatus
Mutton snapper, Lutjanus analis
Blackfin snapper, Lutjanus buccanella
Red snapper, Lutjanus campechanus
Cubera snapper, Lutjanus cyanopterus
Gray snapper, Lutjanus griseus
Lane snapper, Lutjanus synagris
Silk snapper, Lutjanus vivanus
Yellowtail snapper, Ocyurus chrysurus
Vermilion snapper, Rhomboplites aurorubens
Malacanthidae—Tilefishes
Blueline tilefish, Caulolatilus microps
Golden tilefish, Lopholatilus chamaeleonticeps
Sand tilefish, Malacanthus plumieri
Percichthyidae—Temperate basses
Wreckfish, Polyprion americanus
Serranidae—Groupers
Rock hind, Epinephelus adscensionis
Graysby, Epinephelus cruentatus
Speckled hind, Epinephelus drummondhayi
Yellowedge grouper, Epinephelus flavolimbatus
Coney, Epinephelus fulvus
Red hind, Epinephelus guttatus
Goliath grouper, Epinephelus itajara
Red grouper, Epinephelus morio
Misty grouper, Epinephelus mystacinus
Warsaw grouper, Epinephelus nigritus
Snowy grouper, Epinephelus niveatus
Nassau grouper, Epinephelus striatus
Black grouper, Mycteroperca bonaci
Yellowmouth grouper, Mycteroperca interstitialis
Gag, Mycteroperca microlepis
Scamp, Mycteroperca phenax
Yellowfin grouper, Mycteroperca venenosa
Serranidae—Sea Basses:
Black sea bass, Centropristis striata
Sparidae—Porgies
Jolthead porgy, Calamus bajonado
Saucereye porgy, Calamus calamus
Whitebone porgy, Calamus leucosteus
Knobbed porgy, Calamus nodosus
Red porgy, Pagrus pagrus
Scup, Stenotomus chrysops
The following species are designated as ecosystem component species:
Cottonwick, Haemulon melanurum
Bank sea bass, Centropristis ocyurus
Rock sea bass, Centropristis philadelphica
Longspine porgy, Stenotomus caprinus
Ocean triggerfish, Canthidermis sufflamen

Table 3 to Appendix A to Part 622—Atlantic Dolphin and Wahoo
Dolphin, Coryphaena equiselis or Coryphaena hippurus
Wahoo, Acanthocybium solandri
The following species are designated as ecosystem component species:
Bullet mackerel, Auxis rochei
Frigate mackerel, Auxis thazard

§§ 622.55, 622.382, 622.400, 622.402, 622.403, 622.404, and 622.405 [Amended]

20. In addition to the previous amendments to this part, remove all references to “622.413” and add, in their place, “622.19” in the following sections:

a. 50 CFR 622.55(e) introductory text and (e)(2);

b. 50 CFR 622.382(a)(1)(i)(B);

c. 50 CFR 622.400(a)(1)(i);

d. 50 CFR 622.402(a)(1), (2), and (3) and (c)(1);

e. 50 CFR 622.403(b)(3)(i);

f. 50 CFR 622.404(e) and (f); and

g. 50 CFR 622.405(b)(2)(i).

[FR Doc. 2022-19409 Filed 9-12-22; 8:45 am]

BILLING CODE 3510-22-P